DEPARTMENT OF COMMERCE

National Oceanic and Atmospheric Administration

50 CFR Part 679

[Docket No. 071106671-8010-02]

RIN 0648-XD67

Fisheries of the Exclusive Economic Zone Off Alaska; Gulf of Alaska; 2008 and 2009 Final Harvest Specifications for Groundfish

AGENCY: National Marine Fisheries Service (NMFS), National Oceanic and Atmospheric Administration (NOAA), Commerce.

ACTION: Final rule; closures.

SUMMARY: NMFS announces 2008 and 2009 final harvest specifications, reserves and apportionments thereof, Pacific halibut prohibited species catch (PSC) limits, and associated management measures for the groundfish fishery of the Gulf of Alaska (GOA). This action is necessary to establish harvest limits and associated management measures for groundfish during the 2008 and 2009 fishing years and to accomplish the goals and objectives of the Fishery Management Plan for Groundfish of the Gulf of Alaska (FMP). The intended effect of this action is to conserve and manage the groundfish resources in the GOA in accordance with the Magnuson-Stevens Fishery Conservation and Management Act.

DATES: The 2008 and 2009 final harvest specifications and associated management measures are effective at 1200 hrs, Alaska local time (A.l.t.), February 27, 2008, through 2400 hrs, A.l.t., December 31, 2009.

ADDRESSES: Copies of the Supplementary Information Report (SIR) to the Alaska Groundfish Harvest Specifications Final Environmental Impact Statement (Final EIS), Record of Decision (ROD), and Final Regulatory Flexibility Analysis (FRFA) prepared for this action are available from the Alaska Region, NMFS, P.O. Box 21668, Juneau, AK 99802, Attn: Ellen Sebastian, or from the Alaska Region Web site at http://www.fakr.noaa.gov. Copies of the final 2007 Stock Assessment and Fishery Evaluation (SAFE) report for the groundfish resources of the GOA, dated November 2007, are available from the North Pacific Fishery Management Council (Council), 605 West 4th Avenue, Suite 306, Anchorage, AK 99510-2252, phone 907-271-2809, or from its Web site at http://www.fakr.noaa.gov/npfmc.

FOR FURTHER INFORMATION CONTACT: Tom Pearson, Sustainable Fisheries Division, Alaska Region, 907-481-1780, or e-mail at tom.pearson@noaa.gov.

SUPPLEMENTARY INFORMATION: NMFS manages the groundfish fisheries in the exclusive economic zone (EEZ) of the GOA under the FMP. The Council prepared the FMP under the authority of the Magnuson-Stevens Fishery Conservation and Management Act (Magnuson-Stevens Act), 16 U.S.C. 1801 et seq. Regulations governing U.S. fisheries and implementing the FMP appear at 50 CFR parts 600, 679, and 680.

The FMP and its implementing regulations require NMFS, after consultation with the Council, to specify and apportion the total allowable catch (TAC) for each target species and for the “other species” category, and the sum of which must be within the optimum yield (OY) range of 116,000 to 800,000 metric tons (mt). The final specifications set forth in Tables 1 through 26 of this document satisfy this requirement. For 2008, the sum of the TAC amounts is 262,826 mt. For 2009, the sum of the TAC amounts is 279,264 mt.

50 CFR 679.20(c)(1) further requires NMFS to publish and solicit public comment on proposed annual TACs, halibut PSC amounts, and seasonal allowances of pollock and inshore/offshore Pacific cod. The proposed GOA groundfish specifications and Pacific halibut PSC allowances for 2008 and 2009 were published in the Federal Register on December 6, 2007 (72 FR 68810). Comments were invited and accepted through January 7, 2008. NMFS received two letters of comment on the proposed specifications. These letters of comment are summarized in the Response to Comments section of this action. In December 2007, NMFS consulted with the Council regarding the 2008 and 2009 harvest specifications. After considering public comments received, as well as biological and economic data that were available at the Council's December 2007 meeting, NMFS is implementing the 2008 and 2009 final harvest specifications, as recommended by the Council.

Acceptable Biological Catch (ABC) and TAC Specifications

In December 2007, the Council, its Advisory Panel (AP), and its Scientific and Statistical Committee (SSC), reviewed current biological and harvest information about the condition of groundfish stocks in the GOA. This information was compiled by the Council's GOA Plan Team and was presented in the final 2007 SAFE report for the GOA groundfish fisheries, dated November 2007 (see ADDRESSES). The SAFE report contains a review of the latest scientific analyses and estimates of each species' biomass and other biological parameters, as well as summaries of the available information on the GOA ecosystem and the economic condition of the groundfish fisheries off Alaska. From these data and analyses, the Plan Team estimates an ABC for each species or species category.

The final ABC levels are based on the best available biological and socioeconomic information, including projected biomass trends, information on assumed distribution of stock biomass, and revised methods used to calculate stock biomass. The FMP specifies the formulas, or tiers, to be used to compute ABCs and overfishing levels (OFLs). The formulas applicable to a particular stock or stock complex are determined by the level of reliable information available to fisheries scientists. This information is categorized into a successive series of six tiers, with tier one representing the highest level of information quality available and tier six the lowest level of information quality available.

The final TAC recommendations were based on the ABCs as adjusted for other biological and socioeconomic considerations, including maintaining the sum of all TACs within the required OY range of 116,000 to 800,000 mt. The Council adopted the AP's TAC recommendations. The Council recommended TACs for 2008 and 2009 equal to ABCs for pollock, deep-water flatfish, rex sole, sablefish, Pacific ocean perch, shortraker rockfish, rougheye rockfish, northern rockfish, pelagic shelf rockfish, thornyhead rockfish, demersal shelf rockfish, big skate, longnose skate, and other skates. The Council recommended TACs for 2008 and 2009 that are less than the ABCs for Pacific cod, flathead sole, shallow-water flatfish, arrowtooth flounder, other rockfish, and Atka mackerel. None of the Council's recommended TACs for 2008 and 2009 exceeds the final ABC for any species or species category. The 2008 and 2009 harvest specifications approved by the Secretary of Commerce (Secretary) are unchanged from those recommended by the Council and are consistent with the preferred harvest strategy alternative in the Final EIS. NMFS finds that the Council's recommended ABCs, OFLs, and TACs are consistent with the biological condition of the groundfish stocks as described in the 2007 SAFE report and approved by the Council. NMFS also finds that the Council's recommendations for OFL, ABC, and TAC amounts are consistent with the biological condition of groundfish stocks as adjusted for other biological and socioeconomic considerations, including maintaining the total TAC within the OY range. NMFS reviewed the Council's recommended TAC specifications and apportionments and approves these specifications under 50 CFR 679.20(c)(3)(ii). The apportionment of TAC amounts among gear types, processing sectors, and seasons is discussed below.

Tables 1 and 2 list the final 2008 and 2009 OFLs, ABCs, TACs, and area apportionments of groundfish in the GOA. The sums of the 2008 and 2009 ABCs are 536,201 mt and 556,183 mt, respectively, which are higher than the 2007 ABC sum of 490,327 mt (72 FR 9676, March 5, 2007).

Specification and Apportionment of TAC Amounts

As in 2007, the SSC and Council recommended that the method of apportioning the sablefish ABC among management areas in 2008 and 2009 include commercial fishery and survey data. NMFS stock assessment scientists believe the use of unbiased commercial fishery data reflecting catch-per-unit-effort provides a desirable input for stock distribution assessments. NMFS evaluates the use of commercial fishery data annually to ensure unbiased information is included in stock distribution models. The Council's recommendation for sablefish area apportionments also takes into account the prohibition on the use of trawl gear in the Southeast Outside (SEO) District of the Eastern Regulatory Area and makes available 5 percent of the combined Eastern Regulatory Area ABCs to trawl gear for use as incidental catch in other directed groundfish fisheries in the West Yakutat (WYK) District (§ 679.20(a)(4)(i)).

Since the inception of a State of Alaska (State) managed pollock fishery in Prince William Sound (PWS), the GOA Plan Team has recommended the guideline harvest level (GHL) for the pollock fishery in PWS be deducted from the ABC for the western stock of pollock in the GOA in the Western/Central/West Yakutat (W/C/WYK) Area. For the 2008 and 2009 pollock fisheries in PWS, the State's GHL is 1,650 mt.

The apportionment of annual pollock TAC among the Western and Central Regulatory Areas of the GOA reflects the seasonal biomass distribution and is discussed in greater detail below. The annual pollock TAC in the Western and Central Regulatory Areas of the GOA is apportioned among Statistical Areas 610, 620, and 630, as well as equally among each of the following four seasons: the A season (January 20 through March 10), the B season (March 10 through May 31), the C season (August 25 through October 1), and the D season (October 1 through November 1) (50 CFR 679.23(d)(2)(i) through (iv) and 679.20(a)(5)(iii)(B)).

The SSC, AP, and Council adopted the Plan Team's OFL and ABC recommendations for all groundfish species categories. The SSC, AP, and Council recommended apportionment of the ABC for Pacific cod in the GOA among regulatory areas based on the three most recent NMFS summer trawl surveys.

The 2008 and 2009 Pacific cod TACs are affected by the State's fishery for Pacific cod in State waters in the Central and Western Regulatory Areas, as well as in PWS. The SSC, AP, and Council recommended that the sum of all State and Federal water Pacific cod removals not exceed the ABC. Accordingly, the Council recommended reducing the 2008 and 2009 Pacific cod TACs from the ABCs in the Central and Western Regulatory Areas to account for State GHLs. Therefore, the 2008 and 2009 Pacific cod TACs are less than the ABCs by the following amounts: (1) Eastern GOA, 266 mt; (2) Central GOA, 9,475 mt; and (3) Western GOA, 6,483 mt. These amounts reflect the sum of the State's 2008 and 2009 GHLs in these areas, which are 10 percent, 25 percent, and 25 percent of the Eastern, Central, and Western GOA ABCs, respectively. The percentages of the ABCs used to calculate the GHLs for the State managed Pacific cod fisheries are unchanged from 2007.

NMFS also is establishing seasonal apportionments of the annual Pacific cod TAC in the Western and Central Regulatory Areas. Sixty percent of the annual TAC is apportioned to the A season for hook-and-line, pot, and jig gear from January 1 through June 10, and for trawl gear from January 20 through June 10. Forty percent of the annual TAC is apportioned to the B season for hook-and-line, pot, and jig gear from September 1 through December 31, and for trawl gear from September 1 through November 1 (50 CFR 679.23(d)(3) and 679.20(a)(12)).

As in 2007, NMFS establishes for 2008 and 2009 an A season directed fishing allowance (DFA) for the Pacific cod fisheries in the GOA based on the management area TACs minus the recent average A season incidental catch of Pacific cod in each management area before June 10 (§ 679.20(d)(1)). The DFA and incidental catch before June 10 will be managed such that total harvest in the A season will be no more than 60 percent of the annual TAC. Incidental catch taken after June 10 will continue to accrue against the B season TAC. This action meets the intent of the Steller Sea Lion Protection Measures by achieving temporal dispersion of the Pacific cod removals and by reducing the likelihood of harvest exceeding 60 percent of the annual TAC in the A season (January 1 through June 10 for hook-and-line, pot, and jig gear; January 20 through June 10 for trawl gear). The seasonal apportionments of the annual Pacific cod TAC are discussed in greater detail below.

The FMP specifies that the amount for the “other species” category be set at an amount less than or equal to 5 percent of the combined TAC amounts for target species. The final 2008 and 2009 annual GOA-wide “other species” TACs of 4,500 mt are less than 5 percent of the combined TAC amounts for target species. The sum of the TACs for all GOA groundfish is 262,826 mt for 2008 and 279,264 mt for 2009, which are within the OY range specified by the FMP. The sum of the 2008 TACs is lower and the sum of the 2009 TACs is higher than the 2007 TAC sum of 269,912 mt.

Other Rules Affecting the 2008 and 2009 Harvest Specifications

Congress granted NMFS specific statutory authority to manage Central GOA rockfish fisheries in Section 802 of the Consolidated Appropriations Act of 2004 (Pub. L. 108-199). The elements of the Central Gulf of Alaska Rockfish Pilot Program (Rockfish Program) are discussed in detail in the proposed and final rules for Amendment 68 to the FMP (71 FR 33040, June 7, 2006, and 71 FR 67210, November 20, 2006, respectively) and final rule revision (72 FR 37678, July 11, 2007). The Rockfish Program is authorized for five years, from January 1, 2007, until December 31, 2011.

The Rockfish Program allocates exclusive harvesting and processing privileges for the following primary rockfish species: Northern rockfish, Pacific ocean perch, and pelagic shelf rockfish. Secondary species are those species incidentally harvested during the primary rockfish species fisheries and include Pacific cod, rougheye rockfish, shortraker rockfish, sablefish, and thornyhead rockfish. The Rockfish Program also allocates a portion of the total GOA halibut mortality limit annually specified under § 679.21 to participants based on historical halibut mortality rates in the primary rockfish species fisheries. The 2008 amounts of primary rockfish species, secondary species, and halibut mortality to be allocated to the Rockfish Program will not be known until eligible participants apply for participation in the Rockfish Program by March 1, 2008. These amounts will be posted on the Alaska Region Web site at http://www.fakr.noaa.gov when they become available early in 2008. The entry level allocation of rockfish, after subtraction of incidental catch amounts, is equal to 5 percent of the Central GOA TAC for Pacific ocean perch, northern rockfish, and pelagic shelf rockfish. Tables 8 and 9 list the final 2008 and 2009 allocations of rockfish in the Central GOA, respectively, to the entry level fishery.

The Rockfish Program also establishes catch limits, commonly called “sideboards,” to limit the ability of participants eligible for this program to harvest fish in fisheries other than the Central GOA rockfish fisheries. Sideboards limit harvest in the specific rockfish fisheries in the Western GOA and in the WYK District and the amount of halibut bycatch that can be used in certain flatfish fisheries. Tables 19 and 20 list the final 2008 and 2009 Rockfish Program sideboard limits for catcher/processors and catcher vessels in the Western GOA and the WYK District. Table 21 lists the final 2008 and 2009 Rockfish Program halibut mortality limits for catcher/processors and catcher vessels.

The final rule to implement Amendment 80 to the Fishery Management Plan for Groundfish of the Bering Sea and Aleutian Islands Management Area was published in the Federal Register on September 14, 2007 (72 FR 52668). Amendment 80 allocates several Bering Sea and Aleutian Islands non-pollock trawl groundfish TACs among fishing sectors, and facilitates the formation of harvesting cooperatives in the non-American Fisheries Act (non-AFA) trawl catcher/processor sector. Amendment 80 establishes a limited access privilege program for the non-AFA trawl catcher/processor sector. In order to limit the ability of participants eligible for the Amendment 80 fisheries to expand their harvest efforts in the GOA, Amendment 80 establishes groundfish and halibut PSC catch limits for Amendment 80 participants in the GOA. Tables 22 and 23 list the final 2008 and 2009 sideboard limits for Amendment 80 participants. Table 24 lists the final 2008 and 2009 halibut PSC limits for Amendment 80 participants using trawl gear.

In April 2007, the Council recommended Amendment 77 to the GOA FMP. Amendment 77 would remove dark rockfish from the pelagic shelf rockfish (PSR) complex in the GOA FMP in order to allow the State to assume management of dark rockfish beginning in 2009. This action is necessary to allow the State to implement more responsive, regionally-based management measures than are currently possible under the FMP. If Amendment 77 is submitted to and approved by the Secretary, the GOA-wide overfishing level (OFL), ABC, and TAC for the PSR complex in 2009 would be reduced by approximately 250 mt from the levels listed in Table 2.

Changes From the Proposed 2008 and 2009 Harvest Specifications in the GOA

In October 2007, the Council's recommendations for the proposed 2008 and 2009 harvest specifications (72 FR 68810, December 6, 2007) were based largely upon information contained in the final 2006 SAFE report for the GOA groundfish fisheries, dated November 2006 (see ADDRESSES). The Council recommended that the proposed OFLs, ABCs, and TACs established for the groundfish fisheries in 2008 (72 FR 9676, March 5, 2007 see Table 2) be rolled over to 2008 and 2009 pending completion and review of the 2007 SAFE report at its December 2007 meeting.

The 2007 SAFE report, which was not available when the Council made its recommendations in October 2007, contains the best and most recent scientific information on the condition of the groundfish stocks. This report was considered in December 2007 by the Council when it made recommendations for the final 2008 and 2009 harvest specifications. Based on the final 2007 SAFE report, the sum of the 2008 final TACs for the GOA (262,826 mt) is 23,347 mt lower than the sum of the proposed 2008 TACs (286,173 mt). The largest 2008 increases occurred for rougheye rockfish, from 993 mt to 1,286 mt (30 percent increase); for other skates, from 1,617 mt to 2,104 mt (30 percent increase); for flathead sole, from 9,258 mt to 11,054 mt (19 percent increase); and for other rockfish, from 1,482 mt to 1,730 mt (17 percent increase). The largest decreases occurred for pollock, from 81,467 mt to 60,810 mt (34 percent decrease); for pelagic shelf rockfish, from 6,622 mt to 5,227 mt (27 percent decrease); for thornyhead rockfish, from 2,209 mt to 1,910 mt (16 percent decrease); and for sablefish, from 14,239 mt to 12,730 mt (12 percent decrease). Other increases or decreases in 2008 and 2009 are within these ranges.

Compared to the proposed 2008 harvest specifications, the Council's final 2008 TAC recommendations increase fishing opportunities for species for which the Council had sufficient information to raise TAC levels. These include rex sole, flathead sole, shallow-water flatfish, Pacific ocean perch, shortraker rockfish, rougheye rockfish, other rockfish, and other skates. Conversely, the Council reduced TAC levels to provide greater protection for several species, including pollock, Pacific cod, deep-water flatfish, sablefish, northern rockfish, pelagic shelf rockfish, thornyhead rockfish, demersal shelf rockfish, and big skates. The changes in the final rule from the proposed rule are based on the most recent scientific information and implement the harvest strategy described in the proposed rule for the harvest specifications. Tables 1 and 2 list the 2008 and 2009 final OFL, ABC, and TAC amounts for GOA groundfish, respectively.

Table 1.—Final 2008 ABCs, TACs, and OFLs of Groundfish for the Western/Central/West Yakutat (W/C/WYK), Western (W), Central (C), Eastern (E) Regulatory Areas, and in the West Yakutat (WYK), Southeast Outside (SEO), and Gulfwide (GW) Districts of the Gulf of Alaska
[Values are rounded to the nearest metric ton]
Species | Area/district ¹ | ABC | TAC | OFL
Pollock ² | Shumagin (610) | 17,602 | 17,602 | n/a
| Chirikof (620) | 19,181 | 19,181 | n/a
| Kodiak (630) | 13,640 | 13,640 | n/a
| WYK (640) | 1,517 | 1,517 | n/a
Subtotal | W/C/WYK | 51,940 | 51,940 | 72,110
| SEO (650) | 8,240 | 8,240 | 11,040
Total |  | 60,180 | 60,180 | 83,150
Pacific cod ³ | W | 25,932 | 19,449 | n/a
| C | 37,901 | 28,426 | n/a
| E | 2,660 | 2,394 | n/a
Total |  | 66,493 | 50,269 | 88,660
Flatfish ⁴ (deep-water) | W | 690 | 690 | n/a
| C | 6,721 | 6,721 | n/a
| WYK | 965 | 965 | n/a
| SEO | 527 | 527 | n/a
Total |  | 8,903 | 8,903 | 11,343
Rex sole | W | 1,022 | 1,022 | n/a
| C | 6,731 | 6,731 | n/a
| WYK | 520 | 520 | n/a
| SEO | 859 | 859 | n/a
Total |  | 9,132 | 9,132 | 11,933
Flathead sole | W | 12,507 | 2,000 | n/a
| C | 28,174 | 5,000 | n/a
| WYK | 3,420 | 3,420 | n/a
| SEO | 634 | 634 | n/a
Total |  | 44,735 | 11,054 | 55,787
Flatfish ⁵ (shallow-water) | W | 26,360 | 4,500 | n/a
| C | 29,873 | 13,000 | n/a
| WYK | 3,333 | 3,333 | n/a
| SEO | 1,423 | 1,423 | n/a
Total |  | 60,989 | 22,256 | 74,364
Arrowtooth flounder | W | 30,817 | 8,000 | n/a
| C | 167,936 | 30,000 | n/a
| WYK | 15,245 | 2,500 | n/a
| SEO | 12,472 | 2,500 | n/a
Total |  | 226,470 | 43,000 | 266,914
Sablefish ⁶ | W | 1,890 | 1,890 | n/a
| C | 5,500 | 5,500 | n/a
| WYK | 1,950 | 1,950 | n/a
| SEO | 3,390 | 3,390 | n/a
Subtotal | E (WYK and SEO) | 5,340 | 5,340 | n/a
Total |  | 12,730 | 12,730 | 15,040
Pacific ocean perch ⁷ | W | 3,686 | 3,686 | 4,376
| C | 8,185 | 8,185 | 9,717
| WYK | 1,100 | 1,100 | n/a
| SEO | 2,028 | 2,028 | n/a
Subtotal | E (WYK and SEO) | 3,128 | 3,128 | 3,714
Total |  | 14,999 | 14,999 | 17,807
Shortraker rockfish ⁸ | W | 120 | 120 | n/a
| C | 315 | 315 | n/a
| E | 463 | 463 | n/a
Total |  | 898 | 898 | 1,197
Rougheye rockfish ⁹ | W | 125 | 125 | n/a
| C | 834 | 834 | n/a
| E | 327 | 327 | n/a
Total |  | 1,286 | 1,286 | 1,548
Other rockfish ¹⁰ ¹¹ | W | 357 | 357 | n/a
| C | 569 | 569 | n/a
| WYK | 604 | 604 | n/a
| SEO | 2,767 | 200 | n/a
Total |  | 4,297 | 1,730 | 5,624
Northern rockfish ¹¹ ¹² | W | 2,141 | 2,141 | n/a
| C | 2,408 | 2,408 | n/a
| E | 0 | 0 | n/a
Total |  | 4,549 | 4,549 | 5,430
Pelagic shelf rockfish ¹³ | W | 1,003 | 1,003 | n/a
| C | 3,626 | 3,626 | n/a
| WYK | 251 | 251 | n/a
| SEO | 347 | 347 | n/a
Total |  | 5,227 | 5,227 | 6,400
Thornyhead rockfish | W | 267 | 267 | n/a
| C | 860 | 860 | n/a
| E | 783 | 783 | n/a
Total |  | 1,910 | 1,910 | 2,540
Big skates ¹⁴ | W | 632 | 632 | n/a
| C | 2,065 | 2,065 | n/a
| E | 633 | 633 | n/a
Total |  | 3,330 | 3,330 | 4,439
Longnose skates ¹⁵ | W | 78 | 78 | n/a
| C | 2,041 | 2,041 | n/a
| E | 768 | 768 | n/a
Total |  | 2,887 | 2,887 | 3,849
Other skates ¹⁶ | GW | 2,104 | 2,104 | 2,806
Demersal shelf rockfish ¹⁷ | SEO | 382 | 382 | 611
Atka mackerel | GW | 4,700 | 1,500 | 6,200
Other species ¹⁸ | GW | n/a | 4,500 | n/a
Total ¹⁹ |  | 536,201 | 262,826 | 665,642
¹ Regulatory areas and districts are defined at 50 CFR 679.2. (W=Western Gulf of Alaska; C=Central Gulf of Alaska; E=Eastern Gulf of Alaska; WYK=West Yakutat District; SEO=Southeast Outside District; GW=Gulf-wide)
² Pollock is apportioned in the Western/Central Regulatory Areas among three statistical areas. During the A season, the apportionment is based on an adjusted estimate of the relative distribution of pollock biomass of approximately 26 percent, 49 percent, and 24 percent in Statistical Areas 610, 620, and 630, respectively. During the B season, the apportionment is based on the relative distribution of pollock biomass at 26 percent, 60 percent, and 14 percent in Statistical Areas 610, 620, and 630, respectively. During the C and D seasons, the apportionment is based on the relative distribution of pollock biomass at 43 percent, 21 percent, and 35 percent in Statistical Areas 610, 620, and 630, respectively. Tables 5 and 6 list the 2008 and 2009 seasonal apportionments of pollock. In the WYK District and SEO Districts of the Eastern Regulatory Area, pollock is not divided into seasonal allowances.
³ The annual Pacific cod TAC is apportioned 60 percent to an A season and 40 percent to a B season in the Western and Central Regulatory Areas of the GOA. Pacific cod is allocated 90 percent for processing by the inshore component and 10 percent for processing by the offshore component in the Western and Central Regulatory Areas of the GOA. Table 7 lists the 2008 and 2009 seasonal apportionments and component allocations of the Pacific cod TAC.
⁴ “Deep water flatfish” means Dover sole, Greenland turbot, and deepsea sole.
⁵ “Shallow water flatfish” means flatfish not including “deep water flatfish,” flathead sole, rex sole, or arrowtooth flounder.
⁶ Sablefish is allocated to trawl and hook-and-line gears for 2008 and to trawl gear in 2009. Tables 3 and 4 list the 2008 and 2009 allocations of sablefish.
⁷ “Pacific ocean perch” means Sebastes alutus.
⁸ “Shortraker rockfish” means Sebastes borealis.
⁹ “Rougheye rockfish” means Sebastes aleutianus (rougheye) and Sebastes melanostictus (blackspotted).
¹⁰ “Other rockfish” in the Western and Central Regulatory Areas and in the WYK District means slope rockfish and demersal shelf rockfish. The category “other rockfish” in the SEO District means slope rockfish.
¹¹ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern Regulatory Area only, slope rockfish also includes northern rockfish, S. polyspinis.
¹² “Northern rockfish” means Sebastes polyspinis. The 2 mt ABC for northern rockfish in the Eastern Regulatory Area has been combined with the ABC for slope rockfish in the WYK District.
¹³ “Pelagic shelf rockfish” means Sebastes ciliatus (dark), S. variabilis (dusky), S. entomelas (widow), and S. flavidus (yellowtail).
¹⁴ Big skate means Raja binoculata.
¹⁵ Longnose skate means Raja rhina.
¹⁶ Other skates means Bathyraja spp.
¹⁷ “Demersal shelf rockfish” means Sebastes pinniger (canary), S. nebulosus (china), S. caurinus (copper), S. maliger (quillback), S. helvomaculatus (rosethorn), S. nigrocinctus (tiger), and S. ruberrimus (yelloweye).
¹⁸ “Other species” means sculpins, sharks, squid, and octopus. There is no OFL or ABC for “other species,” the TAC for “other species” is set at less than or equal to 5 percent of the TACs for assessed target species.
¹⁹ The total ABC and OFL is the sum of the ABCs and OFLs for assessed target species.

Table 2.—Final 2009 ABCs, TACs, and OFLs of Groundfish for the Western/Central/West Yakutat (W/C/WYK), Western (W), Central (C), Eastern (E) Regulatory Areas, and in the West Yakutat (WYK), Southeast Outside (SEO), and Gulfwide (GW) Districts of the Gulf of Alaska
[Values are rounded to the nearest metric ton]
Species | Area/district ¹ | ABC | TAC | OFL
Pollock ² | Shumagin (610) | 23,700 | 23,700 | n/a
| Chirikof (620) | 25,821 | 25,821 | n/a
| Kodiak (630) | 18,367 | 18,367 | n/a
| WYK (640) | 2,042 | 2,042 | n/a
Subtotal | W/C/WYK | 69,930 | 69,930 | 95,940
| SEO (650) | 8,240 | 8,240 | 11,040
Total |  | 78,170 | 78,170 | 106,980
Pacific cod ³ | W | 25,932 | 19,449 | n/a
| C | 37,901 | 28,426 | n/a
| E | 2,660 | 2,394 | n/a
Total |  | 66,493 | 50,269 | 88,660
Flatfish ⁴ (deep-water) | W | 707 | 707 | n/a
| C | 6,927 | 6,927 | n/a
| WYK | 995 | 995 | n/a
| SEO | 543 | 543 | n/a
Total |  | 9,172 | 9,172 | 11,583
Rex sole | W | 948 | 948 | n/a
| C | 6,241 | 6,241 | n/a
| WYK | 483 | 483 | n/a
| SEO | 796 | 796 | n/a
Total |  | 8,468 | 8,468 | 11,065
Flathead sole | W | 13,001 | 2,000 | n/a
| C | 29,289 | 5,000 | n/a
| WYK | 3,556 | 3,556 | n/a
| SEO | 659 | 659 | n/a
Total |  | 46,505 | 11,215 | 57,962
Flatfish ⁵ (shallow-water) | W | 26,360 | 4,500 | n/a
| C | 29,873 | 13,000 | n/a
| WYK | 3,333 | 3,333 | n/a
| SEO | 1,423 | 1,423 | n/a
Total |  | 60,989 | 22,256 | 74,364
Arrowtooth flounder | W | 31,080 | K8,000 | n/a
| C | 169,371 | 30,000 | n/a
| WYK | 15,375 | 2,500 | n/a
| SEO | 12,579 | 2,500 | n/a
Total |  | 228,405 | 43,000 | 269,237
Sablefish ⁶ | W | 1,727 | 1,727 | n/a
| C | 5,026 | 5,026 | n/a
| WYK | 1,782 | 1,782 | n/a
| SEO | 3,098 | 3,098 | n/a
Subtotal | E (WYK and SEO) | 4,880 | 4,880 | n/a
Total |  | 11,633 | 11,633 | 12,924
Pacific ocean perch ⁷ | W | 3,704 | 3,704 | 4,397
| C | 8,225 | 8,225 | 9,764
| WYK | 1,105 | 1,105 | n/a
| SEO | 2,038 | 2,038 | n/a
Subtotal | E (WYK and SEO) | 3,143 | 3,143 | 3,732
Total |  | 15,072 | 15,072 | 17,893
Shortraker rockfish ⁸ | W | 120 | 120 | n/a
| C | 315 | 315 | n/a
| E | 463 | 463 | n/a
Total |  | 898 | 898 | 1,197
Rougheye rockfish ⁹ | W | 124 | 124 | n/a
| C | 830 | 830 | n/a
| E | 325 | 325 | n/a
Total |  | 1,279 | 1,279 | 1,540
Other rockfish ¹⁰ ¹¹ | W | 357 | 357 | n/a
| C | 569 | 569 | n/a
| WYK | 604 | 604 | n/a
| SEO | 2,767 | 200 | n/a
Total |  | 4,297 | 1,730 | 5,624
Northern rockfish ¹¹ ¹² | W | 2,047 | 2,047 | n/a
| C | 2,302 | 2,302 | n/a
| E | 0 | 0 | n/a
Total |  | 4,349 | 4,349 | 5,120
Pelagic shelf rockfish ¹³ | W | 986 | 986 | n/a
| C | 3,566 | 3,566 | n/a
| WYK | 247 | 247 | n/a
| SEO | 341 | 341 | n/a
Total |  | 5,140 | 5,140 | 6,294
Thornyhead rockfish | W | 267 | 267 | n/a
| C | 860 | 860 | n/a
| E | 783 | 783 | n/a
Total |  | 1,910 | 1,910 | 2,540
Big skates ¹⁴ | W | 632 | 632 | n/a
| C | 2,065 | 2,065 | n/a
| E | 633 | 633 | n/a
Total |  | 3,330 | 3,330 | 4,439
Longnose skates ¹⁵ | W | 78 | 78 | n/a
| C | 2,041 | 2,041 | n/a
| E | 768 | 768 | n/a
Total |  | 2,887 | 2,887 | 3,849
Other skates ¹⁶ | GW | 2,104 | 2,104 | 2,806
Demersal shelf rockfish ¹⁷ | SEO | 382 | 382 | 611
Atka mackerel | GW | 4,700 | 1,500 | 6,200
Other species ¹⁸ | GW | n/a | 4,500 | n/a
Total ¹⁹ |  | 556,183 | 279,264 | 690,888
¹ Regulatory areas and districts are defined at 50 CFR 679.2. (W=Western Gulf of Alaska; C=Central Gulf of Alaska; E=Eastern Gulf of Alaska; WYK=West Yakutat District; SEO=Southeast Outside District; GW=Gulf-wide)
² Pollock is apportioned in the Western/Central Regulatory Areas among three statistical areas. During the A season, the apportionment is based on an adjusted estimate of the relative distribution of pollock biomass of approximately 26 percent, 49 percent, and 24 percent in Statistical Areas 610, 620, and 630, respectively. During the B season, the apportionment is based on the relative distribution of pollock biomass at 26 percent, 60 percent, and 14 percent in Statistical Areas 610, 620, and 630, respectively. During the C and D seasons, the apportionment is based on the relative distribution of pollock biomass at 43 percent, 21 percent, and 35 percent in Statistical Areas 610, 620, and 630, respectively. Tables 5 and 6 list the 2008 and 2009 seasonal apportionments of pollock. In the WYK District and SEO Districts of the Eastern Regulatory Area, pollock is not divided into seasonal allowances.
³ The annual Pacific cod TAC is apportioned 60 percent to an A season and 40 percent to a B season in the Western and Central Regulatory Areas of the GOA. Pacific cod is allocated 90 percent for processing by the inshore component and 10 percent for processing by the offshore component in the Western and Central Regulatory Areas of the GOA. Table 7 lists the 2008 and 2009 seasonal apportionments and component allocations of the Pacific cod TAC.
⁴ “Deep water flatfish” means Dover sole, Greenland turbot, and deepsea sole.
⁵ “Shallow water flatfish” means flatfish not including “deep water flatfish,” flathead sole, rex sole, or arrowtooth flounder.
⁶ Sablefish is allocated to trawl and hook-and-line gears for 2008 and to trawl gear in 2009. Tables 3 and 4 list the 2008 and 2009 allocations of sablefish.
⁷ “Pacific ocean perch” means Sebastes alutus.
⁸ “Shortraker rockfish” means Sebastes borealis.
⁹ “Rougheye rockfish” means Sebastes aleutianus (rougheye) and Sebastes melanostictus (blackspotted).
¹⁰ “Other rockfish” in the Western and Central Regulatory Areas and in the WYK District means slope rockfish and demersal shelf rockfish. The category “other rockfish” in the SEO District means slope rockfish.
¹¹ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern Regulatory Area only, slope rockfish also includes northern rockfish, S. polyspinis.
¹² “Northern rockfish” means Sebastes polyspinis. The 2 mt ABC for northern rockfish in the Eastern Regulatory Area has been combined with the ABC for slope rockfish in the WYK District.
¹³ “Pelagic shelf rockfish” means Sebastes ciliatus (dark), S. variabilis (dusky), S. entomelas (widow), and S. flavidus (yellowtail).
¹⁴ Big skate means Raja binoculata.
¹⁵ Longnose skate means Raja rhina.
¹⁶ Other skates means Bathyraja spp.
¹⁷ “Demersal shelf rockfish” means Sebastes pinniger (canary), S. nebulosus (china), S. caurinus (copper), S. maliger (quillback), S. helvomaculatus (rosethorn), S. nigrocinctus (tiger), and S. ruberrimus (yelloweye).
¹⁸ “Other species” means sculpins, sharks, squid, and octopus. There is no OFL or ABC for “other species,” the TAC for “other species” is set at less than or equal to 5 percent of the TACs for assessed target species.
¹⁹ The total ABC and OFL is the sum of the ABCs and OFLs for assessed target species.

ctus[/E] (tiger), and [E T="03"]S. ruberrimus[/E] (yelloweye).[TNOTE][SU]18[/SU] “Other species” means sculpins, sharks, squid, and octopus. There is no OFL or ABC for “other species,” the TAC for “other species” is set at less than or equal to 5 percent of the TACs for assessed target species.[TNOTE][SU]19[/SU] The total ABC and OFL is

Apportionment of Reserves

Section 679.20(b)(2) requires 20 percent of each TAC for pollock, Pacific cod, flatfish, and the “other species” category be set aside in reserves for possible apportionment at a later date during the fishing year. In 2007, NMFS reapportioned all the reserves in the final harvest specifications. For 2008 and 2009, NMFS proposed reapportionment of all the reserves in the proposed 2008 and 2009 harvest specifications published in the Federal Register on December 6, 2007 (72 FR 68810). NMFS received no public comments on the proposed reapportionments. For the final 2008 and 2009 harvest specifications, NMFS reapportioned as proposed all the reserves for pollock, Pacific cod, flatfish, and “other species.” Specifications of TAC shown in Tables 1 and 2 reflect reapportionment of reserve amounts for these species and species groups.

Allocations of the Sablefish TAC Amounts to Vessels Using Hook-and-Line and Trawl Gear

Section 679.20(a)(4)(i) and (ii) require allocations of sablefish TACs for each of the regulatory areas and districts to hook-and-line and trawl gear. In the Western and Central Regulatory Areas, 80 percent of each TAC is allocated to hook-and-line gear, and 20 percent of each TAC is allocated to trawl gear. In the Eastern Regulatory Area, 95 percent of the TAC is allocated to hook-and-line gear, and 5 percent is allocated to trawl gear. The trawl gear allocation in the Eastern Regulatory Area may only be used to support incidental catch of sablefish in directed fisheries for other target species (§ 679.20(a)(1)). In recognition of the trawl ban in the SEO District of the Eastern Regulatory Area, the Council recommended and NMFS concurs with the allocation of 5 percent of the combined Eastern Regulatory Area sablefish TAC to trawl gear in the WYK District and the remainder of the WYK sablefish TAC be available to vessels using hook-and-line gear. As a result, NMFS allocates 100 percent of the sablefish TAC in the SEO District to vessels using hook-and-line gear. The Council recommended that the hook-and-line sablefish TAC be established annually to ensure that the Individual Fishery Quota (IFQ) fishery is conducted concurrent with the halibut IFQ fishery and is based on the most recent survey information. This recommendation results in an allocation of 267 mt to trawl gear and 1,683 mt to hook-and-line gear in the WYK District, and 3,390 mt to hook-and-line gear in the SEO District in 2008, and 244 mt to trawl gear in the WYK District in 2009. Table 3 lists the allocations of the 2008 sablefish TACs to hook-and-line and trawl gear. Table 4 lists the allocations of the 2009 sablefish TACs to trawl gear.

Table 3.—Final 2008 Sablefish TAC Specifications in the Gulf of Alaska and Allocations to Hook-and-Line and Trawl Gear
[Values are rounded to the nearest metric ton]
Area/district | TAC | Hook-and-line apportionment | Trawl apportionment
Western | 1,890 | 1,512 | 378
Central | 5,500 | 4,400 | 1,100
West Yakutat ¹ | 1,950 | 1,683 | 267
Southeast Outside | 3,390 | 3,390 | 0
Total | 12,730 | 10,985 | 1,745
¹ Represents an allocation of 5 percent of the combined Eastern Regulatory Area sablefish TAC to trawl gear in the WYK District.

Table 4.—Final 2009 Sablefish TAC Specifications in the Gulf of Alaska and Allocation to Trawl Gear
[Values are rounded to the nearest metric ton]
Area/district | TAC | Hook-and-line apportionment ¹ | Trawl apportionment
Western | 1,727 | n/a | 345
Central | 5,026 | n/a | 1,005
West Yakutat ² | 1,782 | n/a | 244
Southeast Outside | 3,098 | n/a | 0
Total | 11,633 | 0 | 1,595
¹ The Council recommended that specifications for the hook-and-line gear sablefish Individual Fishery Quota fisheries be limited to 1 year.
² Represents an allocation of 5 percent of the combined Eastern Regulatory Area sablefish TAC to trawl gear in the WYK District.

Apportionments of Pollock TAC Among Seasons and Regulatory Areas, and Allocations for Processing by Inshore and Offshore Components

In the GOA, pollock is apportioned by season and area, and is further allocated for processing by inshore and offshore components. Pursuant to § 679.20(a)(5)(iv)(B), the annual pollock TAC specified for the Western and Central Regulatory Areas of the GOA is apportioned into four equal seasonal allowances of 25 percent. As established by § 679.23(d)(2)(i) through (iv), the A, B, C, and D season allowances are available from January 20 to March 10, March 10 to May 31, August 25 to October 1, and October 1 to November 1, respectively.

Pollock TACs in the Western and Central Regulatory Areas of the GOA are apportioned among Statistical Areas 610, 620, and 630. In the A and B seasons, the apportionments are in proportion to the distribution of pollock biomass based on the four most recent NMFS winter surveys. In the C and D seasons, the apportionments are in proportion to the distribution of pollock biomass based on the four most recent NMFS summer surveys. For 2008 and 2009, the Council recommends and NMFS approves averaging the winter and summer distribution of pollock in the Central Regulatory Area for the A season. The average is intended to reflect the distribution of pollock and the performance of the fishery in the area during the A season for the 2008 and 2009 fishing years. Within any fishing year, the amount by which a seasonal allowance is underharvested or overharvested may be added to, or subtracted from, subsequent seasonal allowances in a manner to be determined by the Regional Administrator. The rollover amount of unharvested pollock is limited to 20 percent of the seasonal apportionment for the statistical area. Any unharvested pollock above the 20 percent limit could be further distributed to the other statistical areas, in proportion to the estimated biomass in the subsequent season in those statistical areas (§ 679.20(a)(5)(iv)(B)). The WYK and SEO District pollock TACs of 1,517 mt and 8,240 mt, respectively, in 2008, and 2,042 mt and 8,240 mt, respectively, in 2009, are not allocated by season.

Section 679.20(a)(6)(i) requires the allocation of 100 percent of the pollock TAC in all regulatory areas and all seasonal allowances to vessels catching pollock for processing by the inshore component after subtracting amounts projected by the Regional Administrator to be caught by, or delivered to, the offshore component incidental to directed fishing for other groundfish species. The amount of pollock available for harvest by vessels harvesting pollock for processing by the offshore component is that amount actually taken as incidental catch during directed fishing for groundfish species other than pollock, up to the maximum retainable amounts allowed by § 679.20(e) and (f). At this time, these incidental catch amounts are unknown and will be determined during the fishing year.

The 2008 and 2009 seasonal biomass distribution of pollock in the Western and Central Regulatory Areas, area apportionments, and seasonal apportionments for the A, B, C, and D seasons are summarized in Tables 5 and 6, except that amounts of pollock for processing by the inshore and offshore components are not shown.

Table 5.—Final 2008 Distribution of Pollock in the Central and Western Regulatory Areas of the Gulf of Alaska; Seasonal Biomass Distribution, Area Apportionments; and Seasonal Allowances of Annual TAC
[Values are rounded to the nearest metric ton]
Season | Shumagin (area 610) | Chirikof (area 620) | Kodiak (area 630) | Total ¹
A | 3,322 (26.35%) | 6,215 (49.30%) | 3,069 (24.35%) | 12,606 (100%)
B | 3,321 (26.35%) | 7,576 (60.09%) | 1,709 (13.56%) | 12,606 (100%)
C | 5,480 (43.47%) | 2,695 (21.38%) | 4,431 (35.15%) | 12,606 (100%)
D | 5,479 (43.47%) | 2,695 (21.38%) | 4,431 (35.15%) | 12,605 (100%)
Annual Total | 17,602 | 19,181 | 13,640 | 50,423
¹ The WYK and SEO District pollock TACs are not allocated by season and are not included in the total pollock TACs shown in this table.
Note: As established by § 679.23(d)(2)(i) through (iv), the A, B, C, and D season allowances are available from January 20 to March 10, March 10 to May 31, August 25 to October 1, and October 1 to November 1, respectively. The amounts of pollock for processing by the inshore and offshore components are not shown in this table.

Table 6.—Final 2009 Distribution of Pollock in the Central and Western Regulatory Areas of the Gulf of Alaska; Seasonal Biomass Distribution, Area Apportionments; and Seasonal Allowances of Annual TAC
[Values are rounded to the nearest metric ton]
Season | Shumagin (area 610) | Chirikof (area 620) | Kodiak (area 630) | Total ¹
A | 4,472 (26.35%) | 8,367 (49.30%) | 4,133 (24.35%) | 16,972 (100%)
B | 4,472 (26.35%) | 10,198 (60.09%) | 2,302 (13.56%) | 16,972 (100%)
C | 7,378 (43.47%) | 3,628 (21.38%) | 5,966 (35.15%) | 16,972 (100%)
D | 7,378 (43.47%) | 3,628 (21.38%) | 5,966 (35.15%) | 16,972 (100%)
Annual Total | 23,700 | 25,821 | 18,367 | 67,888
¹ The WYK and SEO District pollock TACs are not allocated by season and are not included in the total pollock TACs shown in this table.
Note: As established by § 679.23(d)(2)(i) through (iv), the A, B, C, and D season allowances are available from January 20 to March 10, March 10 to May 31, August 25 to October 1, and October 1 to November 1, respectively. The amounts of pollock for processing by the inshore and offshore components are not shown in this table.

Seasonal Apportionments of Pacific Cod TAC and Allocations for Processing of Pacific Cod TAC Between Inshore and Offshore Components

Pacific cod fishing is divided into two seasons in the Western and Central Regulatory Areas of the GOA. For hook-and-line, pot, and jig gear, the A season is January 1 through June 10, and the B season is September 1 through December 31. For trawl gear, the A season is January 20 through June 10, and the B season is September 1 through November 1 (§ 679.23(d)(3)). After subtracting incidental catch from the A season, 60 percent of the annual TAC will be available as a DFA during the A season for the inshore and offshore components. The remaining 40 percent of the annual TAC will be available for harvest during the B season. The seasonal allocations will be apportioned between the inshore and offshore components, as provided in § 679.20(a)(6)(ii). Under § 679.20(a)(11)(ii), any overage or underage of the Pacific cod allowance from the A season may be subtracted from or added to the subsequent B season allowance.

Section 679.20(a)(6)(ii) requires allocation of the TAC apportionments of Pacific cod in all regulatory areas to vessels catching Pacific cod for processing by the inshore and offshore components. Ninety percent of the Pacific cod TAC in each regulatory area is allocated to vessels catching Pacific cod for processing by the inshore component. The remaining 10 percent of the TAC is allocated to vessels catching Pacific cod for processing by the offshore component. Table 7 lists the seasonal apportionments and allocations of the final 2008 and 2009 Pacific cod TACs.

Table 7.—Final 2008 and 2009 Seasonal Apportionments and Allocation of Pacific cod TAC Amounts in the Gulf of Alaska; Allocations for Processing by the Inshore and Offshore Components
[Values are rounded to the nearest metric ton]
Season | Regulatory area | TAC | Component allocation: Inshore (90%) | Component allocation: Offshore (10%)
| Western | 19,449 | 17,504 | 1,945
A season (60%) |  | 11,669 | 10,502 | 1,167
B season (40%) |  | 7,780 | 7,002 | 778
| Central | 28,426 | 25,583 | 2,843
A season (60%) |  | 17,056 | 15,350 | 1,706
B season (40%) |  | 11,370 | 10,233 | 1,137
| Eastern | 2,394 | 2,155 | 239
Total |  | 50,269 | 45,242 | 5,027

Demersal Shelf Rockfish (DSR)

In a commercial fisheries news release dated December 11, 2007, the Alaska Department of Fish and Game (ADF&G) announced the opening of directed fishing for DSR in the Northern Southeast Inside (NSEI) and the Southern Southeast Inside (SSEI) Subdistricts of the Eastern Gulf of Alaska at 900 hours, A.l.t., January 5, 2008. During the week of January 21, 2008, ADF&G announced future openings of directed fishing for DSR in the Southeast Outside District (SEO) following the International Pacific Halibut Commission's (IPHC) annual meeting held January 15-18, 2008. DSR harvest in the halibut fishery is linked to the halibut quota, therefore ADF&G cannot estimate potential DSR incidental catch in that fishery until those quotas are established. NMFS reminds all fishermen that full retention of all DSR by federally permitted catcher vessels using hook-and-line or jig gear fishing for groundfish and Pacific halibut in the SEO District of the GOA is required (§ 679.20(j)).

Apportionments to the Central GOA Rockfish Pilot Program

Sections 679.81(a)(1) and (2) require the allocation of the primary rockfish species TACs in the Central Regulatory Area after deducting incidental catch needs in other directed groundfish fisheries, to participants in the Rockfish Pilot Program. Five percent (2.5 percent to trawl gear and 2.5 percent to fixed gear) of the final TACs for Pacific ocean perch, northern rockfish, and pelagic shelf rockfish in the Central Regulatory Area are allocated to the entry level rockfish fishery and the remaining 95 percent to those vessels eligible to participate in the Rockfish Program. NMFS is setting aside in 2008 and 2009 incidental catch amounts (ICAs) of 200 mt of Pacific ocean perch, 100 mt of northern rockfish, and 100 mt of pelagic shelf rockfish for other directed fisheries in the Central Regulatory Area. These amounts are based on the 2003 through 2007 average incidental catch in the Central Regulatory Area by these other groundfish fisheries.

Section 679.83(a)(1)(i) requires allocations to the trawl entry level fishery to be made first from the allocation of Pacific ocean perch available to the rockfish entry level fishery. If the amount of Pacific ocean perch available for allocation is less than the total allocation allowable for trawl catcher vessels in the rockfish entry level fishery, then northern rockfish and pelagic shelf rockfish must be allocated to trawl catcher vessels. Allocations of Pacific ocean perch, northern rockfish, and pelagic shelf rockfish to longline gear vessels must be made after the allocations to trawl gear.

Tables 8 and 9 list the final 2008 and 2009 allocations of rockfish in the Central GOA to trawl and longline gear in the entry level rockfish fishery, respectively.

Table 8.—Final 2008 Allocations of Rockfish in the Central Gulf of Alaska to Trawl and Longline Gear¹ in the Entry Level Rockfish Fishery
[Values are rounded to nearest mt]
Species | TAC | Incidental catch allowance | TAC minus ICA | 5% TAC minus ICA | 2.5% TAC minus ICA | Entry level trawl allocation | Entry level longline allocation
Pacific ocean perch | 8,185 | 200 | 7,985 | 399 | 200 | 345 | 54
Northern rockfish | 2,408 | 100 | 2,308 | 115 | 58 | 0 | 115
Pelagic shelf rockfish | 3,626 | 100 | 3,526 | 176 | 88 | 0 | 176
Total | 14,219 | 400 | 13,819 | 691 | 345 | 345 | 345
¹ Longline gear includes jig and hook-and-line gear.

Table 9.—Final 2009 Allocations of Rockfish in the Central Gulf of Alaska to Trawl and Longline Gear ¹ in the Entry Level Rockfish Fishery
[Values are rounded to nearest mt]
Species | TAC | Incidental catch allowance | TAC minus ICA | 5% TAC minus ICA | 2.5% TAC minus ICA | Entry level trawl allocation | Entry level longline allocation
Pacific ocean perch | 8,225 | 200 | 8,025 | 401 | 201 | 342 | 59
Northern rockfish | 2,302 | 100 | 2,202 | 110 | 55 | 0 | 110
Pelagic shelf rockfish | 3,566 | 100 | 3,466 | 173 | 87 | 0 | 173
Total | 14,093 | 400 | 13,693 | 685 | 342 | 342 | 342
¹ Longline gear includes jig and hook-and-line gear.

Halibut PSC Limits

Section 679.21(d) establishes the annual halibut PSC limit apportionments to trawl and hook-and-line gear and permits the establishment of apportionments for pot gear. In December 2007, the Council recommended that NMFS maintain the 2007 halibut PSC limits of 2,000 mt for the trawl fisheries and 300 mt for the hook-and-line fisheries. Ten mt of the hook-and-line limit is further allocated to the DSR fishery in the SEO District. The DSR fishery is defined at § 679.21(d)(4)(iii)(A). This fishery has been apportioned 10 mt in recognition of its small-scale harvests. Most vessels in the DSR fishery are less than 60 ft (18.3 m) length overall (LOA) and are exempt from observer coverage. Therefore, observer data are not available to verify actual bycatch amounts. NMFS assumes the halibut bycatch in the DSR fishery is low because of the short soak times for the gear and duration of the DSR fishery. Also, the DSR fishery occurs in the winter when less overlap occurs in the distribution of DSR and halibut.

Section 679.21(d)(4)(i) authorizes the exemption of specified non-trawl fisheries from the halibut PSC limit. NMFS, after consultation with the Council, exempts pot gear, jig gear, and the sablefish IFQ hook-and-line gear fishery from the non-trawl halibut limit for 2008 and 2009. The Council recommended these exemptions because (1) the pot gear fisheries have low annual halibut bycatch mortality (averaging 18 mt annually from 2001 through 2007); (2) the halibut and sablefish IFQ fisheries have low halibut bycatch mortality because the IFQ program requires retention of legal-sized halibut by vessels using hook-and-line gear if a halibut IFQ permit holder is aboard and is holding unused halibut IFQ; and (3) halibut mortality for the jig gear fisheries is assumed to be negligible. Halibut mortality is assumed to be negligible in the jig gear fisheries given the small amount of groundfish harvested by jig gear (averaging 323 mt annually from 2001 through 2006 and 51 mt through December 31, 2007), the selective nature of jig gear, and the high survival rates of halibut caught and released with jig gear.

Section 679.21(d)(5) gives NMFS the authority to seasonally apportion the halibut PSC limits after consultation with the Council. The FMP and regulations require the Council and NMFS consider the following information in seasonally apportioning halibut PSC limits: (1) Seasonal distribution of halibut; (2) seasonal distribution of target groundfish species relative to halibut distribution; (3) expected halibut bycatch needs on a seasonal basis relative to changes in halibut biomass and expected catch of target groundfish species; (4) expected bycatch rates on a seasonal basis; (5) expected changes in directed groundfish fishing seasons; (6) expected actual start of fishing effort; and (7) economic effects of establishing seasonal halibut allocations on segments of the target groundfish industry.

The final 2007 and 2008 groundfish harvest specifications (72 FR 9676, March 5, 2007) summarized the Council and NMFS's findings with respect to each of these FMP considerations. The Council and NMFS's findings for 2008 and 2009 are unchanged from 2007. The opening dates and halibut PSC limitations for vessels using trawl gear participating in the Rockfish Program in the Central Regulatory Area are described in the final rule to implement the Rockfish Program (71 FR 67210, November 20, 2006).

NMFS concurs in the Council's recommendations listed in Table 10, which shows the final 2008 and 2009 Pacific halilbut PSC limits, allowances, and apportionments. Sections 679.21(d)(5)(iii) and (iv) specify that any underages or overages of a seasonal apportionment of a PSC limit will be deducted from or added to the next respective seasonal apportionment within the fishing year. The information to establish the halibut PSC limits was obtained from the 2007 SAFE report, NMFS, ADF&G, the IPHC, and public testimony.

Table 10.—Final 2008 and 2009 Pacific Halibut PSC Limits, Allowances, and Apportionments
[Values are in metric tons]
Trawl gear: Season | Trawl gear: Amount | Hook-and-line gear ¹: Other than DSR: Season | Hook-and-line gear ¹: Other than DSR: Amount | Hook-and-line gear ¹: DSR: Season | Hook-and-line gear ¹: DSR: Amount
January 20-April 1 | 550 (27.5%) | January 1-June 10 | 250 (86%) | January 1-December 31 | 10 (100%)
April 1-July 1 | 400 (20%) | June 10-September 1 | 5 (2%) |  |
July 1-September 1 | 600 (30%) | September 1-December 31 | 35 (12%) |  |
September 1-October 1 | 150 (7.5%) | n/a | n/a |  |
October 1-December 31 | 300 (15%) | n/a | n/a |  |
Total | 2,000 (100%) | n/a | 290 (100%) |  | 10 (100%)
¹ The Pacific halibut PSC limit for hook-and-line gear is allocated to the demersal shelf rockfish (DSR) fishery and fisheries other than DSR. The hook-and-line sablefish fishery is exempt from halibut PSC limits.

Section 679.21(d)(3)(ii) authorizes further apportionment of the trawl halibut PSC limit to trawl fishery categories. The annual apportionments are based on each category's proportional share of the anticipated halibut bycatch mortality during the fishing year and optimization of the total amount of groundfish harvest under the halibut PSC limit. The fishery categories for the trawl halibut PSC limits are (1) a deep-water species complex, comprised of sablefish, rockfish, deep-water flatfish, rex sole and arrowtooth flounder; and (2) a shallow-water species complex, comprised of pollock, Pacific cod, shallow-water flatfish, flathead sole, Atka mackerel, skates, and “other species” (§ 679.21(d)(3)(iii)). Table 11 lists the final 2008 and 2009 apportionments of Pacific halibut PSC trawl limits between the trawl gear deep-water species complex and shallow-water species complex.

Table 11.—Final 2008 and 2009 Apportionment of Pacific Halibut PSC Trawl Limits Between the Trawl Gear Deep-Water Species Complex and the Shallow-Water Species Complex
[values are in metric tons]
Season | Shallow-water species complex | Deep-water species complex | Total
January 20-April 1 | 450 | 100 | 550
April 1-July 1 | 100 | 300 | 400
July 1-September 1 | 200 | 400 | 600
September 1-October 1 | 150 | Any remainder | 150
Subtotal January 20-October 1 | 900 | 800 | 1,700
October 1-December 31 ¹ | n/a | n/a | 300
Total | n/a | n/a | 2,000
¹ No apportionment between shallow-water and deep-water fishery complexes during the 5th season (October 1-December 31).

Estimated Halibut Bycatch in Prior Years

The best available information on estimated halibut bycatch is data collected by observers during 2007. The calculated halibut bycatch mortality by trawl, hook-and-line, and pot gear through December 8, 2007, is 1,922 mt, 271 mt, and 18 mt, respectively, and a total halibut mortality of 2,211 mt.

Halibut bycatch restrictions seasonally constrained trawl gear fisheries during the 2007 fishing year. Trawling during the second season closed for the deep-water species category on May 17 (72 FR 28620, May 22, 2007), and during the third season on August 10 (72 FR 45697, August 15, 2007). Trawling during the second season closed for the shallow-water species category on June 4 (72 FR 31472, June 7, 2007), and during the third season on August 10 (72 FR 45697, August 15, 2007). To prevent exceeding the fourth season halibut PSC limit for the shallow-water species category, directed fishing using trawl gear was limited to three 12-hour open periods on September 1 (72 FR 49229, August 28, 2007), September 6 (72 FR 51717, September 11, 2007), and September 11 (72 FR 52491, September 14, 2007), and to one 48-hour period beginning September 21 (72 FR 54603, September 26, 2007). Trawling for all groundfish targets (with the exception of pollock by vessels using pelagic trawl gear) closed for the fifth season on October 8 (72 FR 57888, October 11, 2007), reopened on October 10 (72 FR 58261, October 15, 2007) until October 15 (72 FR 59038, October 18, 2007), and reopened on October 22 (72 FR 60586, October 25, 2007). Fishing for groundfish using hook-and-line gear has remained open throughout 2007 as the halibut PSC limit was not reached. The amount of groundfish that trawl gear might have harvested if halibut PSC limits had not restricted the 2007 season is unknown.

Expected Changes in Groundfish Stocks and Catch

The final 2008 and 2009 ABCs for pollock (in 2009), deep-water flatfish, shallow-water flatfish, rex sole (in 2008), arrowtooth flounder, flathead sole, Pacific ocean perch, rougheye, shortraker, and other rockfish, and other skates are higher than those established for 2007. However, the final 2008 and 2009 ABCs for pollock (in 2008), Pacific cod, sablefish, rex sole (in 2009), northern, pelagic shelf, thornyhead, and demersal shelf rockfish, and big and longnose skates are lower than those established for 2007. For the remaining target species, the Council recommended that ABC levels remain unchanged from 2007. More information on these changes is included in the final SAFE report (November 2007) and in the Council, SSC, and AP minutes from the December 2007 meeting available from the Council (see ADDRESSES).

In the GOA, the total final TAC amounts are 262,826 mt for 2008, and 279,264 mt for 2009, a decrease of about 3 percent in 2008 and an increase of about 3 percent in 2009 from the 2007 TAC total of 269,912 mt. Table 12 compares the final TACs for 2007 to the final TACs for 2008 and 2009.

Table 12.—Comparison of Final 2007 and Final 2008 and 2009 Total Allowable Catch in the Gulf of Alaska
[Values are rounded to the nearest metric ton]
Species | 2007 | 2008 | 2009
Pollock | 68,307 | 60,810 | 78,170
Pacific cod | 52,264 | 50,269 | 50,269
Deep-water flatfish | 8,707 | 8,903 | 9,172
Rex sole | 9,100 | 9,132 | 8,468
Flathead sole | 9,148 | 11,054 | 11,215
Shallow-water flatfish | 19,972 | 22,256 | 22,256
Arrowtooth flounder | 43,000 | 43,000 | 43,000
Sablefish | 14,310 | 12,730 | 11,633
Pacific ocean perch | 14,636 | 14,999 | 15,072
Shortraker rockfish | 843 | 898 | 898
Rougheye rockfish | 988 | 1,286 | 1,279
Other rockfish | 1,482 | 1,730 | 1,730
Northern rockfish | 4,938 | 4,549 | 4,349
Pelagic shelf rockfish | 5,542 | 5,227 | 5,140
Thornyhead rockfish | 2,209 | 1,910 | 1,910
Big skates | 3,544 | 3,330 | 3,330
Longnose skates | 2,895 | 2,887 | 2,887
Other skates | 1,617 | 2,104 | 2,104
Demersal shelf rockfish | 410 | 382 | 382
Atka mackerel | 1,500 | 1,500 | 1,500
“Other species” | 4,500 | 4,500 | 4,500
Total | 269,912 | 262,826 | 279,264

Current Estimates of Halibut Biomass and Stock Condition

The most recent halibut stock assessment was developed by the International Pacific Halibut Commission (IPHC) staff in December 2007 for the 2008 commercial fishery; this assessment was considered by the IPHC at its annual January 2008 meeting. Information from ongoing passive integrated transponder (PIT) tag recoveries, as well as inconsistencies in the traditional closed-area stock assessments for some areas has prompted the IPHC to reexamine the stock assessment framework and corresponding harvest policy. It had been assumed that once the halibut reached legal commercial size there was little movement between regulatory areas. PIT tag recoveries indicate greater movement between regulatory areas than previously thought. In response to this new information, IPHC staff developed a coast-wide assessment based on a single stock. The assessment recommends a coast-wide harvest rate of 20 percent of the exploitable biomass overall, but a lower harvest rate of 15 percent for Areas 4B, C, D, and E. The current exploitable halibut biomass in Alaska for 2008 was estimated to be 361 million pounds, down from 414 million pounds estimated for 2007. Approximately half of the decrease is due to changes in the assessment model and the other half to anticipated lower commercial and survey catch rates in 2008. The female spawning biomass remains far above the minimum which occurred in the 1970s.

The halibut resource is fully utilized. Recent average catches (1994-2006) in the commercial halibut fisheries in Alaska have averaged 33,970 mt round weight. Catch in waters off Alaska is 26 percent higher than long-term potential yield for the entire halibut stock, reflecting the good condition of the Pacific halibut resource. In January 2008, the IPHC staff recommended Alaska commercial catch limits totaling 30,349 mt round weight for 2008, a 4 percent decrease from 31,667 mt in 2007. Through December 31, 2007, commercial hook-and-line harvests of halibut off Alaska totaled 29,844 mt round weight.

Additional information on the Pacific halibut stock assessment may be found in the IPHC's 2007 Pacific halibut stock assessment (December 2007), available on the IPHC Web site at http://www.iphc.washington.edu. The IPHC considered the 2007 Pacific halibut assessment for 2008 at its January 2008 annual meeting when the IPHC set the 2008 commercial halibut fishery quotas.

Other Factors

The proposed 2008 and 2009 harvest specifications (72 FR 68810, December 6, 2007) discuss potential impacts of expected fishing for groundfish on halibut stocks, as well as methods available for, and costs of, reducing halibut bycatch in the groundfish fisheries.

Halibut Discard Mortality Rates

The Council recommends and NMFS concurs that the halibut discard mortality rates (DMRs) recommended by the IPHC for the 2008 and 2009 GOA groundfish fisheries be used to monitor the 2008 and 2009 GOA halibut bycatch mortality limits. The IPHC recommended use of long-term average DMRs for the 2008 and 2009 groundfish fisheries. The IPHC will analyze observer data annually and recommend changes to the DMRs where a DMR shows large variation from the mean. Most of the IPHC's assumed DMRs were based on an average of mortality rates determined from NMFS observer data collected between 1996 and 2005. Long-term average DMRs were not available for some fisheries, so rates from the most recent years were used. For the “other species” and skate fisheries, where insufficient mortality data are available, the mortality rate of halibut caught in the Pacific cod fishery for that gear type was recommended as a default rate. The GOA DMRs for 2008 and 2009 are unchanged from those used in 2007. The DMRs for hook-and-line targeted fisheries range from 10 to 14 percent. The DMRs for trawl target fisheries range from 53 to 76 percent. Each DMR for the pot target fisheries is 16 percent. The final halibut DMRs for vessels fishing in the GOA for 2008 and 2009 are listed in Table 13. A copy of the document justifying these DMRs is available from the Council (see ADDRESSES) and is discussed in the final 2007 SAFE report, dated November 2007.

Table 13.—Final 2008 and 2009 Halibut Discard Mortality Rates for Vessels Fishing in the Gulf of Alaska
[Values are percent of halibut bycatch assumed to be dead]
Gear | Target fishery | Mortality rate (%)
Hook-and-line | Other species | 14
| Skates | 14
| Pacific cod | 14
| Rockfish | 10
Trawl | Arrowtooth flounder | 69
| Atka mackerel | 60
| Deep-water flatfish | 53
| Flathead sole | 61
| Non-pelagic pollock | 59
| Other species | 63
| Skates | 63
| Pacific cod | 63
| Pelagic pollock | 76
| Rex sole | 63
| Rockfish | 67
| Sablefish | 65
| Shallow-water flatfish | 71
Pot | Other species | 16
| Skates | 16
| Pacific cod | 16

American Fisheries Act (AFA) Catcher/Processor and Catcher Vessel Groundfish Harvest and PSC Limits

Section 679.64 establishes groundfish harvesting and processing sideboard limitations on AFA catcher/processors and catcher vessels in the GOA. These sideboard limits are necessary to protect the interests of fishermen and processors who have not directly benefitted from the AFA from fishermen and processors who have received exclusive harvesting and processing privileges under the AFA. Section 679.7(k)(1)(ii) prohibits listed AFA catcher/processors from harvesting any species of fish in the GOA. Additionally, § 679.7(k)(1)(iv) prohibits listed AFA catcher/processors from processing any pollock harvested in a directed pollock fishery in the GOA and any groundfish harvested in Statistical Area 630 of the GOA.

AFA catcher vessels that are less than 125 ft (38.1 m) LOA, have annual landings of pollock in the Bering Sea and Aleutian Islands less than 5,100 mt, and have made at least 40 groundfish landings from 1995 through 1997 are exempt from GOA sideboard limits under § 679.64(b)(2)(ii). Sideboard limits for non-exempt AFA catcher vessels in the GOA are based on their traditional harvest levels of TAC in groundfish fisheries covered by the GOA FMP. Section 679.64(b)(3)(iii) establishes the groundfish sideboard limitations in the GOA based on the retained catch of non-exempt AFA catcher vessels of each sideboard species from 1995 through 1997 divided by the TAC for that species over the same period. The final 2008 and 2009 non-exempt AFA catcher vessel groundfish harvest sideboard limitations are listed in Tables 14 and 15, respectively. All catch of sideboard species made by non-exempt AFA catcher vessels, whether as targeted catch or incidental catch, will be deducted from the sideboard limits in Tables 14 and 15.

Table 14.—Final 2008 GOA Non-Exempt American Fisheries Act Catcher Vessel (CV) Groundfish Harvest Sideboard Limitations
[Values are in metric tons]
Species | Apportionments by season/gear | Area/ component | Ratio of 1995-1997 non- exempt AFA CV catch to 1995-1997 TAC | 2008 TAC | 2008 non- exempt AFA catcher vessel sideboard
Pollock | A Season, January 20-March 10 | Shumagin (610) Chirikof (620) | 0.6112 0.1427 | 3,322 6,215 | 2,030 887
|  | Kodiak (630) | 0.2438 | 3,069 | 748
| B Season, March 10-May 31 | Shumagin (610) | 0.6112 | 3,321 | 2,030
|  | Chirikof (620) | 0.1427 | 7,576 | 1,081
|  | Kodiak (630) | 0.2438 | 1,709 | 417
| C Season, August 25-October 1 | Shumagin (610) Chirikof (620) | 0.6112 0.1427 | 5,480 2,695 | 3,349 385
|  | Kodiak (630) | 0.2438 | 4,431 | 1,080
| D Season, October 1-November 1 | Shumagin (610) Chirikof (620) | 0.6112 0.1427 | 5,479 2,695 | 3,349 385
|  | Kodiak (630) | 0.2438 | 4,431 | 1,080
| Annual | WYK (640) | 0.3499 | 1,517 | 531
|  | SEO (650) | 0.3499 | 8,240 | 2,883
Pacific cod | A Season ¹, January 1-June 10 | W inshore W offshore | 0.1423 0.1026 | 10,502 1,167 | 1,494 120
|  | C inshore | 0.0722 | 15,350 | 1,108
|  | C offshore | 0.0721 | 1,706 | 123
| B Season ², September 1-December 31 | W inshore W offshore | 0.1423 0.1026 | 7,002 778 | 996 80
|  | C inshore | 0.0722 | 10,233 | 739
|  | C offshore | 0.0721 | 1,137 | 82
| Annual | E inshore | 0.0079 | 2,155 | 17
|  | E offshore | 0.0078 | 239 | 2
Flatfish deep-water | Annual | W | 0.0000 | 690 | 0
|  | C | 0.0670 | 6,721 | 450
|  | E | 0.0171 | 1,492 | 26
Rex sole | Annual | W | 0.0010 | 1,022 | 1
|  | C | 0.0402 | 6,731 | 271
|  | E | 0.0153 | 1,379 | 21
Flathead sole | Annual | W | 0.0036 | 2,000 | 7
|  | C | 0.0261 | 5,000 | 131
|  | E | 0.0048 | 4,054 | 19
Flatfish shallow-water | Annual | W | 0.0156 | 4,500 | 70
|  | C | 0.0598 | 13,000 | 777
|  | E | 0.0126 | 4,756 | 60
Arrowtooth flounder | Annual | W | 0.0021 | 8,000 | 17
|  | C | 0.0309 | 30,000 | 927
|  | E | 0.0020 | 5,000 | 10
Sablefish | Annual, trawl gear | W | 0.0000 | 378 | 0
|  | C | 0.0720 | 1,100 | 79
|  | E | 0.0488 | 267 | 13
Pacific ocean perch | Annual | W | 0.0623 | 3,686 | 230
|  | C | 0.0866 | 8,185 | 709
|  | E | 0.0466 | 3,128 | 146
Shortraker rockfish | Annual | W | 0.0000 | 120 | 0
|  | C | 0.0237 | 315 | 7
|  | E | 0.0124 | 463 | 6
Rougheye rockfish | Annual | W | 0.0000 | 125 | 0
|  | C | 0.0237 | 834 | 20
|  | E | 0.0124 | 327 | 4
Other rockfish | Annual | W | 0.0034 | 357 | 1
|  | C | 0.2065 | 569 | 117
|  | E | 0.0000 | 804 | 0
Northern rockfish | Annual | W | 0.0003 | 2,141 | 1
|  | C | 0.0336 | 2,408 | 81
Pelagic shelf rockfish | Annual | W | 0.0001 | 1,003 | 0
|  | C | 0.0000 | 3,626 | 0
|  | E | 0.0067 | 598 | 4
Thornyhead rockfish | Annual | W | 0.0308 | 267 | 8
|  | C | 0.0308 | 860 | 26
|  | E | 0.0308 | 783 | 24
Big skates | Annual | W | 0.0090 | 632 | 6
|  | C | 0.0090 | 2,065 | 19
|  | E | 0.0090 | 633 | 6
Longnose skates | Annual | W | 0.0090 | 78 | 1
|  | C | 0.0090 | 2,041 | 18
|  | E | 0.0090 | 768 | 7
Other skates | Annual | GW | 0.0090 | 2,104 | 19
DSR | Annual | SEO | 0.0020 | 382 | 1
Atka mackerel | Annual | Gulfwide | 0.0309 | 1,500 | 46
Other species | Annual | Gulfwide | 0.0090 | 4,500 | 41
¹ The Pacific cod A season for trawl gear does not open until January 20.
² The Pacific cod B season for trawl gear closes November 1.

Table 15.—Final 2009 GOA Non-Exempt American Fisheries Act Catcher Vessel (CV) Groundfish Harvest Sideboard Limitations
[Values are in metric tons]
Species | Apportionments by season/gear | Area/component | Ratio of 1995-1997 non- exempt AFA CV catch to 1995-1997 TAC | 2009 TAC | 2009 non- exempt AFA catcher vessel sideboard
Pollock | A Season, January 20-March 10 | Shumagin (610) Chirikof (620) | 0.6112 0.1427 8,367 | 4,472 | 2,733 1,194
|  | Kodiak (630) | 0.2438 | 4,133 | 1,008
| B Season, March 10-May 31 | Shumagin (610) | 0.6112 | 4,472 | 2,733
|  | Chirikof (620) | 0.1427 | 10,198 | 1,455
|  | Kodiak (630) | 0.2438 | 2,302 | 561
| C Season, August 25-October 1 | Shumagin (610) Chirikof (620) | 0.6112 0.1427 | 7,378 3,628 | 4,509 518
|  | Kodiak (630) | 0.2438 | 5,966 | 1,455
| D Season, October 1-November 1 | Shumagin (610) Chirikof (620) | 0.6112 0.1427 | 7,378 3,628 | 4,509 518
|  | Kodiak (630) | 0.2438 | 5,966 | 1,455
| Annual | WYK (640) | 0.3499 | 2,042 | 714
|  | SEO (650) | 0.3499 | 8,240 | 2,883
Pacific cod | A Season ¹, January 1-June 10 | W inshore W offshore | 0.1423 0.1026 | 10,502 1,167 | 1,494 120
|  | C inshore | 0.0722 | 15,350 | 1,108
|  | C offshore | 0.0721 | 1,706 | 123
| B Season ², September 1-December 31 | W inshore W offshore | 0.1423 0.1026 | 7,002 778 | 996 80
|  | C inshore | 0.0722 | 10,233 | 739
|  | C offshore | 0.0721 | 1,137 | 82
| Annual | E inshore | 0.0079 | 2,155 | 17
|  | E offshore | 0.0078 | 239 | 2
Flatfish deep-water | Annual | W | 0.0000 | 707 | 0
|  | C | 0.0670 | 6,927 | 464
|  | E | 0.0171 | 1,538 | 26
Rex sole | Annual | W | 0.0010 | 948 | 1
|  | C | 0.0402 | 6,241 | 251
|  | E | 0.0153 | 1,279 | 20
Flathead sole | Annual | W | 0.0036 | 2,000 | 7
|  | C | 0.0261 | 5,000 | 131
|  | E | 0.0048 | 4,215 | 20
Flatfish shallow-water | Annual | W | 0.0156 | 4,500 | 70
|  | C | 0.0598 | 13,000 | 777
|  | E | 0.0126 | 4,756 | 60
Arrowtooth flounder | Annual | W | 0.0021 | 8,000 | 17
|  | C | 0.0309 | 30,000 | 927
|  | E | 0.0020 | 5,000 | 10
Sablefish | Annual, trawl gear | W | 0.0000 | 345 | 0
|  | C | 0.0720 | 1,005 | 72
|  | E | 0.0488 | 244 | 12
Pacific ocean perch | Annual | W | 0.0623 | 3,704 | 231
|  | C | 0.0866 | 8,225 | 712
|  | E | 0.0466 | 3,143 | 146
Shortraker rockfish | Annual | W | 0.0000 | 120 | 0
|  | C | 0.0237 | 315 | 7
|  | E | 0.0124 | 463 | 6
Rougheye rockfish | Annual | W | 0.0000 | 142 | 0
|  | C | 0.0237 | 830 | 20
|  | E | 0.0124 | 325 | 4
Other rockfish | Annual | W | 0.0034 | 357 | 1
|  | C | 0.2065 | 569 | 117
|  | E | 0.0000 | 804 | 0
Northern rockfish | Annual | W | 0.0003 | 2,047 | 1
|  | C | 0.0336 | 2,302 | 77
Pelagic shelf rockfish | Annual | W | 0.0001 | 986 | 0
|  | C | 0.0000 | 3,566 | 0
|  | E | 0.0067 | 588 | 4
Thornyhead rockfish | Annual | W | 0.0308 | 267 | 8
|  | C | 0.0308 | 860 | 26
|  | E | 0.0308 | 783 | 24
Big skates | Annual | W | 0.0090 | 632 | 6
|  | C | 0.0090 | 2,065 | 19
|  | E | 0.0090 | 633 | 6
Longnose skates | Annual | W | 0.0090 | 78 | 1
|  | C | 0.0090 | 2,041 | 18
|  | E | 0.0090 | 768 | 7
Other skates | Annual | GW | 0.0090 | 2,104 | 19
DSR | Annual | SEO | 0.0020 | 382 | 1
Atka mackerel | Annual | Gulfwide | 0.0309 | 1,500 | 46
Other species | Annual | Gulfwide | 0.0090 | 4,500 | 41
¹ The Pacific cod A season for trawl gear does not open until January 20.
² The Pacific cod B season for trawl gear closes November 1.

The PSC sideboard limits for non-exempt AFA catcher vessels in the GOA are based on the aggregate retained groundfish catch by non-exempt AFA catcher vessels in each PSC target category from 1995 through 1997 divided by the retained catch of all vessels in that fishery from 1995 through 1997 (§ 679.64(b)(4)). Table 16 lists the final 2008 and 2009 non-exempt AFA catcher vessel halibut PSC limits for vessels using trawl gear in the GOA.

Table 16.—Final 2008 and 2009 Non-Exempt American Fisheries Act Catcher Vessel Halibut Prohibited Species Catch (PSC) Limits for Vessels using Trawl Gear in the GOA
[Values are in metric tons]
Seasonal allowance | Season | Target fishery | Ratio of 1995- 1997 non-exempt AFA CV retained catch to total retained catch | 2008 and 2009 PSC limit | 2008 and 2009 non-exempt AFA CV PSC limit
1 | January 20-April 1 | shallow-water deep-water | 0.340 0.070 | 450 100 | 153 7
2 | April 1-July 1 | shallow-water deep-water | 0.340 0.070 | 100 300 | 34 21
3 | July 1-September 1 | shallow-water deep-water | 0.340 0.070 | 200 400 | 68 28
4 | September 1-October 1 | shallow-water deep-water | 0.340 0.070 | 150 0 | 51 0
5 | October 1-December 31 | all targets | 0.205 | 300 | 61

Non-AFA Crab Vessel Groundfish Harvest Limitations

Section 680.22 establishes groundfish catch limits for vessels with a history of participation in the Bering Sea snow crab fishery from using the increased flexibility provided by the Crab Rationalization Program to expand their level of participation in the GOA groundfish fisheries. These sideboard limits restrict these vessels' catch to their collective historical landings in each GOA groundfish fishery (except the fixed-gear sablefish fishery). Sideboard limits also will apply to catch made using a License Limitation Program (LLP) license derived from the history of a restricted vessel, even if that LLP license is used on another vessel.

Sideboard limits for non-AFA crab vessels in the GOA are based on their traditional harvest levels of TAC in groundfish fisheries covered by the GOA FMP. Section 680.22(d) and (e) base the groundfish sideboard limitations in the GOA on the retained catch by non-AFA crab vessels of each sideboard species from 1996 through 2000 divided by the total retained harvest of that species over the same period. The 2008 and 2009 final GOA non-AFA crab vessel groundfish harvest sideboard limits are listed in Tables 17 and 18. All targeted or incidental catch of sideboard species made by non-AFA crab vessels will be deducted from the sideboard limits in Tables 17 and 18.

Vessels exempt from Pacific cod sideboards are those that landed less than 45,359 kilograms of Bering Sea snow crab and more than 500 mt of groundfish (in round weight equivalents) from the GOA between January 1, 1996, and December 31, 2000, and any vessel named on an LLP that was generated in whole or in part by the fishing history of a vessel meeting the criteria in § 680.22(a)(3).

Table 17.—Final 2008 GOA Non-American Fisheries Act Crab Vessel Groundfish Harvest Sideboard Limits
[Values are rounded to nearest metric ton]
Species | Season/gear | Area/component | Ratio of 1996-2000 non-AFA crab vessel catch to 1996-2000 total harvest | 2008 TAC | 2008 non-AFA crab vessel sideboard limit
Pollock | A Season, January 20-March 10 | Shumagin (610) Chirikof (620) | 0.0098 0.0031 | 3,322 6,215 | 33 19
|  | Kodiak (630) | 0.0002 | 3,069 | 1
| B Season, March 10-May 31 | Shumagin (610) Chirikof (620) | 0.0098 0.0031 | 3,321 7,576 | 33 23
|  | Kodiak (630) | 0.0002 | 1,709 | 0
| C Season, August 25-October 1 | Shumagin (610) Chirikof (620) | 0.0098 0.0031 | 5,480 2,695 | 54 8
|  | Kodiak (630) | 0.0002 | 4,431 | 1
| D Season, October 1-November 1 | Shumagin (610) Chirikof (620) | 0.0098 0.0031 | 5,479 2,695 | 54 8
|  | Kodiak (630) | 0.0002 | 4,431 | 1
| Annual | WYK (640) | 0.0000 | 1,517 | 0
|  | SEO (650) | 0.0000 | 8,240 | 0
Pacific cod | A Season ¹, January 1-June 10 | W inshore W offshore | 0.0902 0.2046 | 10,502 1,167 | 947 239
|  | C inshore | 0.0383 | 15,350 | 588
|  | C offshore | 0.2074 | 1,706 | 354
| B Season ², September 1-December 31 | W inshore W offshore | 0.0902 0.2046 | 7,002 778 | 632 159
|  | C inshore | 0.0383 | 10,233 | 392
|  | C offshore | 0.2074 | 1,137 | 236
| Annual | E inshore | 0.0110 | 2,155 | 24
|  | E offshore | 0.0000 | 239 | 0
Flatfish deep-water | Annual | W | 0.0035 | 690 | 2
|  | C | 0.0000 | 6,721 | 0
|  | E | 0.0000 | 1,492 | 0
Rex sole | Annual | W | 0.0000 | 1,022 | 0
|  | C | 0.0000 | 6,731 | 0
|  | E | 0.0000 | 1,379 | 0
Flathead sole | Annual | W | 0.0002 | 2,000 | 0
|  | C | 0.0004 | 5,000 | 2
|  | E | 0.0000 | 4,054 | 0
Flatfish shallow-water | Annual | W | 0.0059 | 4,500 | 27
|  | C | 0.0001 | 13,000 | 1
|  | E | 0.0000 | 4,756 | 0
Arrowtooth flounder | Annual | W | 0.0004 | 8,000 | 3
|  | C | 0.0001 | 30,000 | 3
|  | E | 0.0000 | 5,000 | 0
Sablefish | Annual, trawl gear | W | 0.0000 | 378 | 0
|  | C | 0.0000 | 1,100 | 0
|  | E | 0.0000 | 267 | 0
Pacific ocean perch | Annual | W | 0.0000 | 3,686 | 0
|  | C | 0.0000 | 8,185 | 0
|  | E | 0.0000 | 3,128 | 0
Shortraker rockfish | Annual | W | 0.0013 | 120 | 0
|  | C | 0.0012 | 315 | 0
|  | E | 0.0009 | 463 | 0
Rougheye rockfish | Annual | W | 0.0067 | 125 | 1
|  | C | 0.0047 | 834 | 4
|  | E | 0.0008 | 327 | 0
Other rockfish | Annual | W | 0.0035 | 357 | 1
|  | C | 0.0033 | 569 | 2
|  | E | 0.0000 | 804 | 0
Northern rockfish | Annual | W | 0.0005 | 2,141 | 1
|  | C | 0.0000 | 2,408 | 0
Pelagic shelf rockfish | Annual | W | 0.0017 | 1,003 | 2
|  | C | 0.0000 | 3,626 | 0
|  | E | 0.0000 | 598 | 0
Thornyhead rockfish | Annual | W | 0.0047 | 267 | 1
|  | C | 0.0066 | 860 | 6
|  | E | 0.0045 | 783 | 4
Big skate | Annual | W | 0.0392 | 632 | 25
|  | C | 0.0159 | 2,065 | 33
|  | E | 0.0000 | 633 | 0
Longnose skate | Annual | W | 0.0392 | 78 | 3
|  | C | 0.0159 | 2,041 | 32
|  | E | 0.0000 | 768 | 0
Other skates | Annual | Gulfwide | 0.0176 | 2,014 | 35
Demersal shelf rockfish | Annual | SEO | 0.0000 | 382 | 0
Atka mackerel | Annual | Gulfwide | 0.0000 | 1,500 | 0
Other species | Annual | Gulfwide | 0.0176 | 4,500 | 79
¹ The Pacific cod A season for trawl gear does not open until January 20.
² The Pacific cod B season for trawl gear closes November 1.

Table 18.—Final 2009 GOA Non-American Fisheries Act Crab Vessel Groundfish Harvest Sideboard Limits
[Values are rounded to nearest metric ton]
Species | Season/gear | Area/component | Ratio of 1996-2000 non-AFA crab vessel catch to 1996-2000 total harvest | 2009 TAC | 2009 non-AFA crab vessel sideboard limit
Pollock | A Season, January 20-March 10 | Shumagin (610) Chirikof (620) | 0.0098 0.0031 | 4,472 8,367 | 44 26
|  | Kodiak (630) | 0.0002 | 4,133 | 1
| B Season, March 10-May 31 | Shumagin (610) Chirikof (620) | 0.0098 0.0031 | 4,472 10,198 | 44 32
|  | Kodiak (630) | 0.0002 | 2,302 | 0
| C Season, August 25-October 1 | Shumagin (610) Chirikof (620) | 0.0098 0.0031 | 7,378 3,628 | 72 11
|  | Kodiak (630) | 0.0002 | 5,966 | 1
| D Season, October 1-November 1 | Shumagin (610) Chirikof (620) | 0.0098 0.0031 | 7,378 3,628 | 72 11
|  | Kodiak (630) | 0.0002 | 5,966 | 1
| Annual | WYK (640) | 0.0000 | 2,042 | 0
|  | SEO (650) | 0.0000 | 8,240 | 0
Pacific cod | A Season ¹, January 1-June 10 | W inshore W offshore | 0.0902 0.2046 | 10,502 1,167 | 947 239
|  | C inshore | 0.0383 | 15,350 | 588
|  | C offshore | 0.2074 | 1,706 | 354
| B Season ², September 1-December 31 | W inshore W offshore | 0.0902 0.2046 | 7,002 778 | 632 159
|  | C inshore | 0.0383 | 10,233 | 392
|  | C offshore | 0.2074 | 1,137 | 236
| Annual | E inshore | 0.0110 | 2,155 | 24
|  | E offshore | 0.0000 | 239 | 0
Flatfish deep-water | Annual | W | 0.0035 | 707 | 2
|  | C | 0.0000 | 6,927 | 0
|  | E | 0.0000 | 1,538 | 0
Rex sole | Annual | W | 0.0000 | 948 | 0
|  | C | 0.0000 | 6,241 | 0
|  | E | 0.0000 | 1,279 | 0
Flathead sole | Annual | W | 0.0002 | 2,000 | 0
|  | C | 0.0004 | 5,000 | 2
|  | E | 0.0000 | 4,215 | 0
Flatfish shallow-water | Annual | W | 0.0059 | 4,500 | 27
|  | C | 0.0001 | 13,000 | 1
|  | E | 0.0000 | 4,756 | 0
Arrowtooth flounder | Annual | W | 0.0004 | 8,000 | 3
|  | C | 0.0001 | 30,000 | 3
|  | E | 0.0000 | 5,000 | 0
Sablefish | Annual, trawl gear | W | 0.0000 | 345 | 0
|  | C | 0.0000 | 1,005 | 0
|  | E | 0.0000 | 244 | 0
Pacific ocean perch | Annual | W | 0.0000 | 3,704 | 0
|  | C | 0.0000 | 8,225 | 0
|  | E | 0.0000 | 3,143 | 0
Shortraker rockfish | Annual | W | 0.0013 | 120 | 0
|  | C | 0.0012 | 315 | 0
|  | E | 0.0009 | 463 | 0
Rougheye rockfish | Annual | W | 0.0067 | 124 | 1
|  | C | 0.0047 | 830 | 4
|  | E | 0.0008 | 325 | 0
Other rockfish | Annual | W | 0.0035 | 357 | 1
|  | C | 0.0033 | 569 | 2
|  | E | 0.0000 | 804 | 0
Northern rockfish | Annual | W | 0.0005 | 2,047 | 1
|  | C | 0.0000 | 2,302 | 0
Pelagic shelf rockfish | Annual | W | 0.0017 | 986 | 2
|  | C | 0.0000 | 3,566 | 0
|  | E | 0.0000 | 588 | 0
Thornyhead rockfish | Annual | W | 0.0047 | 267 | 1
|  | C | 0.0066 | 860 | 6
|  | E | 0.0045 | 783 | 4
Big skate | Annual | W | 0.0392 | 632 | 25
|  | C | 0.0159 | 2,065 | 33
|  | E | 0.0000 | 633 | 0
Longnose skate | Annual | W | 0.0392 | 78 | 3
|  | C | 0.0159 | 2,041 | 32
|  | E | 0.0000 | 768 | 0
Other skates | Annual | Gulfwide | 0.0176 | 2,104 | 37
Demersal shelf rockfish | Annual | SEO | 0.0000 | 382 | 0
Atka mackerel | Annual | Gulfwide | 0.0000 | 1,500 | 0
Other species | Annual | Gulfwide | 0.0176 | 4,500 | 79
¹ The Pacific cod A season for trawl gear does not open until January 20.
² The Pacific cod B season for trawl gear closes November 1.

Rockfish Program Groundfish Sideboard Limitations and Halibut Mortality Limitations

Section 679.82(d)(7) establishes sideboards to limit the ability of participants eligible for the Rockfish Program to harvest fish in fisheries other than the Central GOA rockfish fisheries. The Rockfish Program provides certain economic advantages to harvesters. Harvesters could use this economic advantage to increase their participation in other fisheries, adversely affecting the participants in other fisheries. The final sideboards for 2008 and 2009 limit the total amount of catch that could be taken by eligible harvesters and limit the amount of halibut mortality to historic levels. The sideboard measures are in effect only during the month of July. Traditionally, the Central GOA rockfish fisheries opened in July. The sideboards are designed to restrict fishing during the historical season for the fishery, but allow eligible rockfish harvesters to participate in fisheries before or after the historical rockfish season. The sideboard provisions are discussed in detail in the proposed rule (71 FR 33040, June 7, 2006) and final rule (71 FR 67210, November 20, 2006, and 72 FR 37678, July 11, 2007) for the Rockfish Program. Tables 19 and 20 list the final 2008 and 2009 Rockfish Program harvest limits in the WYK District and the Western GOA. Table 21 lists the final 2008 and 2009 Rockfish Program halibut mortality limits for catcher/processors and catcher vessels.

Table 19.—Final 2008 Rockfish Program Harvest Limits by Sector for West Yakutat District and Western Regulatory Area by the Catcher/Processor (CP) and Catcher Vessel (CV) Sectors
[Values are rounded to nearest metric ton]
Management area | Fishery | CP sector (% of TAC) | CV sector (% of TAC) | 2008 TAC | 2008 CP limit | 2008 CV limit
West Yakutat District | Pelagic shelf rockfish | 72.4 | 1.7 | 251 | 182 | 4
| Pacific ocean perch | 76.0 | 2.9 | 1,100 | 836 | 32
Western Regulatory Area | Pelagic shelf rockfish | 63.3 | 0.0 | 1,003 | 635 | 0
| Pacific ocean perch | 61.1 | 0.0 | 3,686 | 2,252 | 0
| Northern rockfish | 78.9 | 0.0 | 2,141 | 1,689 | 0

Table 20.—Final 2009 Rockfish Program Harvest Limits by Sector for West Yakutat District and Western Regulatory Area by the Catcher/Processor (CP) and Catcher Vessel (CV) Sectors
[Values are rounded to nearest metric ton]
Management area | Fishery | CP sector (% of TAC) | CV sector (% of TAC) | 2009 TAC | 2009 CP limit | 2009 CV limit
West Yakutat District | Pelagic shelf rockfish | 72.4 | 1.7 | 247 | 179 | 4
| Pacific ocean perch | 76.0 | 2.9 | 1,105 | 840 | 32
Western Regulatory Area | Pelagic shelf rockfish | 63.3 | 0.0 | 986 | 624 | 0
| Pacific ocean perch | 61.1 | 0.0 | 3,704 | 2,263 | 0
| Northern rockfish | 78.9 | 0.0 | 2,047 | 1,615 | 0

Table 21.—Final 2008 and 2009 Rockfish Program Halibut Mortality Limits for the Catcher/Processor and Catcher Vessel Sectors
[Values are rounded to nearest metric ton]
Sector | Shallow-water complex halibut PSC sideboard ratio | Deep-water complex halibut PSC sideboard ratio | Annual halibut mortality limit (mt) | Annual shallow-water complex halibut PSC sideboard limit (mt) | Annual deep-water complex halibut PSC sideboard limit (mt)
Catcher/processor | 0.54 | 3.99 | 2,000 | 11 | 80
Catcher vessel | 6.32 | 1.08 | 2,000 | 126 | 22

Gulf of Alaska Amendment 80 Vessel Groundfish Harvest and PSC Limits

Section 679.92 establishes groundfish harvesting sideboard limits on all Amendment 80 vessels, other than the F/V GOLDEN FLEECE, to amounts no greater than the limits shown in Table 37 to part 679. Sideboard limits in the GOA are for pollock in the Western and Central Regulatory Areas and in the WYK District, for Pacific cod gulfwide, for Pacific ocean perch and pelagic shelf rockfish in the Western Regulatory Area and WYK District, and for northern rockfish in the Western Regulatory Area. The harvest of Pacific ocean perch, pelagic shelf rockfish, and northern rockfish in the Central Regulatory Area of the GOA is subject to regulation under the Central GOA Rockfish Program. Amendment 80 vessels not qualified under the Rockfish Program are excluded from directed fishing for these rockfish species in the Central GOA. Under regulations, the F/V GOLDEN FLEECE is prohibited from directed fishing for pollock, Pacific cod, Pacific ocean perch, pelagic shelf rockfish, and northern rockfish in the GOA. These sideboard limits are necessary to protect the interests of fishermen who do not directly benefit from Amendment 80 from expansion into their fisheries by the Amendment 80 participants.

Groundfish sideboard limits for Amendment 80 vessels operating in the GOA are based on their average aggregate harvests from 1998 to 2004. Tables 22 and 23 list the final 2008 and 2009 sideboard limits for Amendment 80 vessels, respectively. All targeted or incidental catch of sideboard species made by Amendment 80 vessels will be deducted from the sideboard limits in Tables 22 and 23.

Table 22.—Final 2008 GOA Groundfish Sideboard Limits for Amendment 80 Vessels
[Values are rounded to nearest metric ton]
Species | Apportionments and allocations by season | Area | Ratio of Amendment 80 sector vessels 1998-2004 catch to TAC | 2008 TAC (mt) | 2008 Amendment 80 vessel sideboard limits (mt)
Pollock | A Season, January 20-February 25 | Shumagin (610) Chirikof (620) | 0.003 0.002 | 3,322 6,215 | 10 12
|  | Kodiak (630) | 0.002 | 3,069 | 6
| B Season, March 10-May 31 | Shumagin (610) Chirikof (620) | 0.003 0.002 | 3,321 7,576 | 10 15
|  | Kodiak (630) | 0.002 | 1,709 | 3
| C Season August 25-September 15 | Shumagin (610) Chirikof (620) | 0.003 0.002 | 5,480 2,695 | 16 5
|  | Kodiak (630) | 0.002 | 4,431 | 9
| D Season, October 1-November 1 | Shumagin (610) Chirikof (620) | 0.003 0.002 | 5,479 2,695 | 16 5
|  | Kodiak (630) | 0.002 | 4,431 | 9
| Annual | WYK (640) | 0.002 | 1,517 | 3
Pacific cod | A Season ¹, January 1-June 10 | W C | 0.020 0.044 | 11,669 17,056 | 233 750
| B Season ², September 1-December 31 | W C | 0.020 0.044 | 7,780 11,370 | 156 500
| Annual | WYK | 0.034 | 2,394 | 81
Pacific ocean perch | Annual | W | 0.994 | 3,686 | 3,664
|  | WYK | 0.961 | 1,100 | 1,057
Northern rockfish | Annual | W | 1.000 | 2,141 | 2,141
Pelagic shelf rockfish | Annual | W | 0.764 | 1,003 | 766
|  | WYK | 0.896 | 251 | 225
¹ The Pacific cod A season for trawl gear does not open until January 20.
² The Pacific cod B season for trawl gear closes November 1.

Table 23.—Final 2009 GOA Groundfish Sideboard Limits for Amendment 80 Vessels
Species | Apportionments and allocations by season | Area | Ratio of Amendment 80 sector vessels 1998-2004 catch to TAC | 2009 TAC (mt) | 2009 Amendment 80 vessel sideboard limits (mt)
Pollock | A Season, January 20-February 25 | Shumagin (610) Chirikof (620) | 0.003 0.002 | 4,472 8,367 | 13 17
|  | Kodiak (630) | 0.002 | 4,133 | 8
| B Season, March 10-May 31 | Shumagin (610) Chirikof (620) | 0.003 0.002 | 4,472 10,198 | 13 20
|  | Kodiak (630) | 0.002 | 2,302 | 5
| C Season, August 25-September 15 | Shumagin (610) Chirikof (620) | 0.003 0.002 | 7,378 3,628 | 22 7
|  | Kodiak (630) | 0.002 | 5,966 | 12
| D Season, October 1-November 1 | Shumagin (610) Chirikof (620) | 0.003 0.002 | 7,398 3,628 | 22 7
|  | Kodiak (630) | 0.002 | 5,966 | 12
| Annual | WYK (640) | 0.002 | 2,042 | 0
Pacific cod | A Season ¹, January 1-June 10 | W C | 0.020 0.044 | 11,669 17,056 | 233 750
| B Season ², September 1-December 31 | W C | 0.020 0.044 | 7,780 11,370 | 156 500
| Annual | WYK | 0.034 | 2,394 | 81
Pacific ocean perch | Annual | W | 0.994 | 3,704 | 3,682
|  | WYK | 0.961 | 1,105 | 1,062
Northern rockfish | Annual | W | 1.000 | 2,047 | 2,047
Pelagic shelf rockfish | Annual | W | 0.764 | 986 | 753
|  | WYK | 0.896 | 247 | 221
¹ The Pacific cod A season for trawl gear does not open until January 20.
² The Pacific cod B season for trawl gear closes November 1.

The PSC sideboard limits for Amendment 80 vessels in the GOA are based on the historic use of halibut PSC by Amendment 80 vessels in each PSC target category from 1998 through 2004 (Table 38 to 50 CFR part 679). These values are slightly lower than the average historic use to accommodate two factors: allocation of halibut PSC Cooperative Quotas (CQs) under the Central GOA Rockfish Program and the exemption of the F/V GOLDEN FLEECE from this restriction. Table 24 lists the final 2008 and 2009 halibut PSC limits for Amendment 80 vessels.

Table 24.—Final 2008 and 2009 Halibut Prohibited Species Catch (PSC) Limits for Amendment 80 Vessels in the GOA
Seasonal allowance | Season | Target fishery | Historic Amendment 80 use of the annual halibut PSC limit catch | 2008 and 2009 annual PSC limit (mt) | 2008 and 2009 Amendment 80 vessel PSC limit (mt)
1 | January 20-April 1 | shallow-water | 0.0048 | 2,000 | 10
|  | deep-water | 0.0115 | 2,000 | 23
2 | April 1-July 1 | shallow-water | 0.0189 | 2,000 | 38
|  | deep-water | 0.1072 | 2,000 | 214
3 | July 1-September 1 | shallow-water | 0.0146 | 2,000 | 29
|  | deep-water | 0.0521 | 2,000 | 104
4 | September 1-October 1 | shallow-water | 0.0074 | 2,000 | 15
|  | deep-water | 0.0014 | 2,000 | 3
5 | October 1-December 31 | shallow-water | 0.0227 | 2,000 | 45
|  | deep-water | 0.0371 | 2,000 | 74

Directed Fishing Closures

Pursuant to § 679.20(d)(1)(i), if the Regional Administrator determines (1) that any allocation or apportionment of a target species or “other species” category allocated or apportioned to a fishery will be reached; or (2) with respect to pollock and Pacific cod, that an allocation or apportionment to an inshore or offshore component allocation will be reached, the Regional Administrator may establish a DFA for that species or species group. If the Regional Administrator establishes a DFA and that allowance is or will be reached before the end of the fishing year, NMFS will prohibit directed fishing for that species or species group in the specified GOA regulatory area or district (§ 679.20(d)(1)(iii)).

The Regional Administrator has determined that the following TAC amounts in Table 25 are necessary as incidental catch to support other anticipated groundfish fisheries for the 2008 and 2009 fishing years.

Table 25.—2008 and 2009 Directed Fishing Closures in the GOA
[Amounts needed for incidental catch in other directed fisheries are in metric tons]
Target | Area/component/gear | Amount
Atka mackerel | all | 1,500
Thornyhead rockfish | all | 1,910
Shortraker rockfish | all | 898
Rougheye rockfish | all | 1,286 (2008) 1,279 (2009)
Other rockfish | all | 1,730
Sablefish | trawl | 1,745 (2008) 1,595 (2009)
Big skates | all | 3,300
Longnose skates | all | 2,887
Other skates | all | 2,104
Pollock | all/offshore | ¹ unknown
¹ Pollock is closed to directed fishing in the GOA by the offshore component under § 679.20(a)(6)(i).

Consequently, in accordance with § 679.20(d)(1)(i), the Regional Administrator establishes the DFA for the species or species groups listed in Table 25 as zero. Therefore, in accordance with § 679.20(d)(1)(iii), NMFS is prohibiting directed fishing for those species, areas, gear types, and components in the GOA listed in Table 25. These closures will remain in effect through 2400 hrs, A.l.t., December 31, 2009.

Section 679.64(b)(5) provides for management of AFA catcher vessel groundfish harvest limits and PSC bycatch limits using directed fishing closures and PSC closures according to procedures set out at § 679.20(d)(1)(iv), 679.21(d)(8), and 679.21(e)(3)(v). The Regional Administrator has determined that, in addition to the closures listed above, many of the non-exempt AFA catcher vessel sideboard limits listed in Tables 14 and 15 are necessary as incidental catch to support other anticipated groundfish fisheries for the 2008 and 2009 fishing years. In accordance with § 679.20(d)(1)(iv), the Regional Administrator sets the DFAs for the species and species groups in Table 26 at zero. Therefore, in accordance with § 679.20(d)(1)(iii), NMFS is prohibiting directed fishing by non-exempt AFA catcher vessels in the GOA for the species and specified areas set out in Table 26. These closures will remain in effect through 2400 hrs, A.l.t., December 31, 2009.

Table 26.—2008 and 2009 Non-Exempt AFA Catcher Vessel Sideboard Directed Fishing Closures for All Gear Types in the GOA
[Amounts needed for incidental catch in other directed fisheries are in metric tons]
Species | Regulatory area/district | Amount
Pacific cod | Eastern | 17 (inshore) 2 (offshore).
Deep-water flatfish | Western | 0.
Rex sole | Western | 1.
Flathead sole | Eastern and Western | 19 and 7 (2008) 20 and 70 (2009).
Arrowtooth flounder | Eastern and Western | 17 and 10.
Northern rockfish | Western | 1.
Pelagic shelf rockfish | Entire GOA | 0(W), 0(C), 4(E).
Demersal shelf rockfish | SEO District | 1.

Section 680.22 provides for the management of non-AFA crab vessel groundfish harvest limits using directed fishing closures in accordance with § 680.22(e)(2) and (3). The Regional Administrator has determined that the non-AFA crab vessel sideboards listed in Tables 17 and 18 are insufficient to support a directed fishery and set the sideboard DFA at zero, with the exception of Pacific cod in the Western and Central Regulatory Areas. Therefore, in accordance with § 680.22(e)(3), NMFS is prohibiting directed fishing by non-AFA crab vessels in the GOA for all species and species groups listed in Tables 17 and 18, with the exception of Pacific cod in the Western and Central Regulatory Areas.

Section 679.82 provides for the management of Rockfish Program sideboard limits using directed fishing closures in accordance with § 679.82(d)(7)(i) and (ii). The Regional Administrator has determined that the catcher vessel sideboards listed in Tables 19 and 20 are insufficient to support a directed fishery and set the sideboard DFA at zero. Therefore, NMFS is closing directed fishing for pelagic shelf rockfish and Pacific ocean perch in the WYK District and the Western Regulatory Area and for northern rockfish in the Western Regulatory Area by catcher vessels participating in the Central GOA Rockfish Program during the month of July in 2008 and 2009. These closures will remain in effect through 2400 hrs, A.l.t., December 31, 2009.

Under authority of the final 2007 specifications (72 FR 9676, March 5, 2007), pollock fishing opened on January 20, 2008, for the amounts specified in that notice. NMFS has since closed Statistical Area 610 to directed fishing for pollock effective 1200 hrs, A.l.t., January 22, 2008 (73 FR 4493, January 25, 2008), until 1200 hrs, A.l.t., March 10, 2008. NMFS closed Statistical Area 630 to directed fishing for pollock effective 1200 hrs, A.l.t., January 22, 2008 (73 FR 4494, January 25, 2008), until 1200 hrs, A.l.t., January 25, 2008, and 1200 hrs, A.l.t., January 27, 2008, until 1200 hrs, A.l.t., March 10, 2008 (73 FR 5128, January 29, 2008). NMFS rescinds the closure in the Chiniak Gully Research Area of the GOA to all commercial trawl fishing and testing of trawl gear from August 1 to September 20, 2008 (73 FR 1555, January 9, 2008). NMFS prohibited directed fishing for species that comprise the shallow-water species fishery by Amendment 80 vessels subject to sideboard limits in the GOA effective 1200 hrs, A.l.t., January 23, 2008 (73 FR 4760, January 28, 2008), until 1200 hrs, A.l.t., January 29, 2008 (73 FR 6055, February 1, 2008). NMFS prohibited directed fishing for the A season allowance of the 2008 Pacific cod sideboard limits apportioned to non-AFA crab vessels catching Pacific cod for processing by the inshore component in the Western Regulatory Area of the GOA effective 1200 hrs, A.l.t., February 4, 2008, until September 1, 2008 (73 FR 7224, February 7, 2008). NMFS prohibited directed fishing for the A season allowance of the 2008 Pacific cod sideboard limits apportioned to non-AFA crab vessels catching Pacific cod for processing by the inshore component in the Central Regulatory Area of the GOA effective 1200 hrs, A.l.t., February 9, 2008, until September 1, 2008 (73 FR 8229, February 13, 2008). NMFS prohibited directed fishing for Pacific cod by vessels catching Pacific cod for processing by the inshore component of the Central Regulatory Area of the GOA, effective 12 noon, Alaska local time, February 20, 2008, through September 1, 2008 (73 FR XXXX, February XX, 2008). While these closures are in effect, the maximum retainable amounts at § 679.20(e) and (f) apply at any time during a fishing trip. These closures to directed fishing are in addition to closures and prohibitions found in regulations at 50 CFR part 679. NMFS may implement other closures during the 2008 and 2009 fishing years as necessary for effective conservation and management.

Response to Comments

NMFS received two letters of comment (five comments) in response to the proposed 2008 and 2009 harvest specifications. These comments are summarized and responded to below.

Comment 1: Explain why the catch specifications as reported in the proposed harvest specifications published in the Federal Register do not match the actual numbers discussed and recommended by the Groundfish Plan Teams, Scientific and Statistical Committee, or the North Pacific Fishery Management Council in December 2007.

Response: NMFS's primary objective in the harvest specifications process is the conservation and management of fish resources. The harvest specifications process was developed to balance the use of the best available scientific information from the most recent Stock Assessment and Fishery Evaluation (SAFE) reports with the notice and comment procedures required by the Administrative Procedure Act that allow public participation in the development of rules for more informed agency decision making. Chapter 3 of the Alaska Groundfish Harvest Specifications Final Environmental Impact Statement, January 2007, provides a detailed description of the harvest specifications process and is available on the NMFS website at http://www.fakr.noaa.gov/analyses/specs/eis/final.pdf.

As explained in the proposed harvest specifications, the Council recommended the proposed harvest specifications for 2008 and 2009 in October 2007. NMFS then published the proposed harvest specifications in the Federal Register (72 FR 68810, December 6, 2007, and 72 FR 68833, December 6, 2007). The Council used the best information available to recommend that proposed 2008 and 2009 overfishing levels (OFLs), acceptable biological catches (ABCs), and total allowable catches (TACs) be set equal to the 2008 amounts previously published in the Federal Register (72 FR 9451, March 2, 2007, and 72 FR 9676, March 5, 2007). The proposed harvest specifications were based largely on information contained in the 2006 SAFE reports for the GOA groundfish fisheries, dated November 2006, because the 2007 SAFE reports were not completed until November 2007.

In November 2007, the 2007 SAFE reports were forwarded to the Council by the Council's Groundfish Plan Teams. The 2007 SAFE reports are available on the NMFS Web site at http://www.afsc.noaa.gov/REFM/stocks/assessments.htm. The 2007 SAFE reports contain the best and most recent scientific information on the condition of the groundfish stocks, including projected biomass trends, information on assumed distribution of stock biomass, and revised methods used to calculate stock biomass. In December 2007, the Council developed recommendations for the final harvest specifications based on the new information in the 2007 SAFE reports, public testimony, and the Scientific and Statistical Committee's reviews of the SAFE reports and recommendations. NMFS reviewed the Council's final harvest specifications recommendations and public comments on the proposed harvest specifications, and determined that the final harvest specifications (1) were set using the most recent scientific information according to the harvest strategy, (2) are within the optimum yield established for the GOA, and (3) do not exceed the ABC for any single species or species complex.

Comment 2: Cut all quotas by 50 percent this year and by 10 percent each year thereafter.

Response: The decisions on the amount of harvest are based on the best available science and socioeconomic considerations. NMFS finds that the ABCs and TACs are consistent with the biological condition of the groundfish stocks as described in the 2007 SAFE reports and approved by the Council. See response to comment 1.

Comment 3: It is difficult to understand the process in which NMFS addresses the impacts of the Federal groundfish fisheries on the North Pacific ecosystem. No existing National Environmental Policy Act (NEPA) document adequately assesses the effects of the total allowable catch levels under current circumstances. Removing millions of tons of fish from the ecosystem using various types of gear, including trawl gear, is likely to have significant effects on the environment, and on fish habitat in particular. Given prevailing ecological and ecosystem conditions and the implications of fishery removals, NMFS must prepare an EIS to evaluate the impacts of the 2008 and 2009 harvest specifications.

Response: NMFS analyzed the impacts of the Federal groundfish fisheries on the North Pacific ecosystem in the Alaska Groundfish Harvest Specifications Final Environmental Impact Statement, January 2007. The EIS examined alternative harvest strategies and projected TAC levels for the federally managed groundfish fisheries in the GOA that comply with Federal regulations, the FMPs, and the Magnuson-Stevens Act. The preferred harvest strategy prescribes setting TACs for groundfish species and species complexes through the Council's harvest specifications process.

Each year, NMFS and the Council utilize the best available scientific information to derive annual harvest specifications, which include TACs and prohibited species catch limits for the following two years. The Council's Groundfish Plan Teams and Scientific and Statistical Committee use stock assessments to calculate biomass, overfishing levels, and ABC limits for each species or species group for specified management areas. The annual SAFE reports include an ecosystem considerations chapter which is used by the stock assessment scientists in the development of the assessments and the recommended ABCs. The SAFE reports detail how ecosystem considerations are incorporated into the assessment process.

Overfishing levels and ABCs provide the foundation for the Council and NMFS to develop the TACs. Overfishing levels and ABC amounts reflect fishery science, applied pursuant to the requirements of the FMPs. The TACs recommended by the Council are either at or below the ABCs. The sum of the TACs for each area is constrained by the optimum yield established for that area.

The EIS evaluated the consequences of alternative harvest strategies and projected TAC levels on ecosystem components and the ecosystem as a whole. Chapter 2 of the Groundfish EIS points to the implications of overall declines in pollock and Pacific cod biomass, discusses the resulting decreases in TACs for those species, and identifies potential increases in flatfish TACs. These changes in abundance and TAC levels were evaluated in the EIS. The EIS assessed the environmental consequences of each alternative on target species, non-specified species, forage species, prohibited species, marine mammals, seabirds, essential fish habitat, ecosystem relationships, the economy, and environmental justice. Ecosystem impacts were evaluated with respect to predator-prey relationships, energy flow and balance, and diversity.

NMFS also prepared a Supplemental Information Report to evaluate the need to prepare a Supplemental EIS for the 2008 and 2009 groundfish harvest specifications. The Supplemental Information Report is available on the NMFS Web site at http://www.fakr.noaa.gov/analyses/specs/eis/default.htm. A Supplemental EIS is required if (1) the agency makes substantial changes in the proposed action that are relevant to environmental concerns, or (2) significant new circumstances or information exists relevant to environmental concerns and bearing on the proposed action or its impacts (40 CFR 1502.9(c)(1)).

In this report, NMFS analyzed the information contained in the Council's 2007 SAFE reports and other information available to NMFS and the Council to determine whether a Supplemental EIS should be prepared. As described in the report, NMFS concluded that the 2008 and 2009 harvest specifications are consistent with the preferred alternative harvest strategy analyzed in the EIS because they were set through the harvest specifications process pursuant to the selected harvest strategy, are within the optimum yield established for the GOA, and do not exceed the ABC for any single species or species complex. The preferred harvest strategy analyzed in the EIS anticipated that new information on changes in species abundance would be used in setting the annual harvest specifications and was designed to adjust to such fluctuations.

As described in the Supplemental Information Report, the information used to set the 2008 and 2009 harvest specifications is not significant relative to the environmental impacts analyzed in the EIS and it raises no new environmental concerns significantly different from those previously analyzed in the EIS. The harvest specifications process and the environmental consequences of the selected harvest strategy are fully described in the EIS. Thus, NMFS concluded that the new information available is not of a scale and scope that would require a Supplemental EIS.

Comment 4: NEPA and the Magnuson-Stevens Act require NMFS to undertake a new, credible analysis of habitat and bycatch impacts before raising flatfish quotas. The Essential Fish Habitat EIS and the Alaska Groundfish Harvest Specifications EIS are not sufficient to evaluate the potential impacts, including bottom habitat impacts, of an increase in the flatfish harvests, the use of bottom trawls, and redistribution of fishing effort.

Response: NMFS has performed an appropriate analysis of the potential impacts, including bottom habitat impacts, of an increase in the flatfish harvests, the use of bottom trawls, and redistribution of fishing effort. The Alaska Groundfish Harvest Specifications Final EIS (Groundfish EIS, January 2007) based its conclusions on the Final EIS for Essential Fish Habitat Identification and Conservation in Alaska (EFH EIS, April 2005, available on the NMFS website at http://www.fakr.noaa.gov/habitat/seis/efheis.htm) analysis and on the extensive habitat protection measures enacted after the EFH EIS was finalized. The EFH EIS represents the best available science and fully discloses the uncertainties in understanding the impacts of fishing on EFH. The EFH EIS concludes that the effects on EFH are minimal, although some may be persistent, because the analysis found no indication that continued fishing activities at the current rate and intensity would alter the capacity of EFH to support healthy populations of managed species over the long term.

Due to the uncertainties identified in the EFH EIS, the Council recommended, and NMFS implemented, precautionary measures to protect nearly 300,000 square nautical miles of habitat identified as EFH and habitat areas of particular concern from the effects of fishing activities in the Aleutian Islands and GOA (71 FR 36694, June 28, 2006).

Additionally, the Council recommended habitat protection measures for the Bering Sea under Amendment 89. Amendment 89, if approved by the Secretary, would close portions of the Bering Sea to non-pelagic trawling, including flatfish fishing, to ensure fishing remained in historically fished areas and prevent substantial redistribution of effort from increased TAC levels. This amendment and proposed rule is scheduled to be published in the spring and, if approved, implemented by fall 2008. A draft Environmental Assessment was prepared for that action. It analyzes the impacts of bottom trawl gear on habitat in the Bering Sea and the impacts from closing these specific areas to bottom trawl gear. The draft Environmental Assessment is available on the NMFS website at http://www.fakr.noaa.gov/npfmc/current_issues/BSHC/BSHC307.pdf.

The Groundfish EIS projects increases in flatfish TACs under the preferred harvest strategy and under Alternative 1. Chapter 2 of the Groundfish EIS points to the implications of overall declines in pollock and Pacific cod biomass, discusses the resulting decreases in TACs for those species, and identifies potential increases in flatfish TACs. Potential changes in flatfish TACs are evaluated in the EIS where changes in flatfish harvests may impact resource components. For example, there are discussions in Chapter 8 on marine mammals, Chapter 10 on habitat, Chapter 11 on ecosystem relationships, and Chapter 12 on economic and social factors. For habitat, the EIS concluded that since flatfish are harvested with bottom gear, the impacts to habitat may increase with an increase in flatfish TACs. However, increased TACs may not lead to proportionate increases in fishing activity or harvests, or benthic habitat impacts. The flatfish fisheries routinely do not harvest the full TAC because of halibut PSC constraints and limited marketability for some flatfish species. The halibut PSC limits and the marketability of some flatfish species, such as arrowtooth flounder, are not likely to change in 2008. Due to these factors, actual flatfish harvest in 2008 is likely to be lower than the predicted TAC amounts.

Additionally, the EFH conservation measures, closures of habitat areas of particular concern, and other area closures and gear restrictions established in the FMPs protect areas of ecological importance to the long-term sustainability of managed species from fishing impacts, regardless of the TAC levels.

Thus, NMFS concluded that the preferred harvest strategy impacts EFH for managed species, but that the available information does not identify effects of fishing that are more than minimal. An increase in flatfish TACs would not change this conclusion because of the existing habitat protection measures and limits on the actual flatfish harvests that prevent the TACs from being fully harvested. Additionally, the general location of the fisheries, the fishing seasons, and the gear used in the fisheries are not likely to be changed by the 2008 and 2009 TAC changes.

Comment 5: Recent increases in the amount of bycatch in the Gulf of Alaska pollock fishery from 2005 to 2006 require substantial analysis not only focused on bycatch, but also focused on habitat impacts.

Response: The increase in incidental catch of groundfish and Tanner crab from 2005 to 2006 is attributed to the increased use of bottom trawl gear to target pollock and multiple species during a single trip (pollock, flatfish, and Pacific cod for example). Catches of groundfish remain generally well below the TAC levels previously analyzed for their impacts on habitat. Estimates of incidental catch of Tanner crab by a particular gear type and target fishery vary tremendously from year to year. The incidental catch of Tanner crab in all of the GOA groundfish fisheries combined decreased from 0.2 percent in 2005 to 0.14 percent in 2006.

Classification

NMFS has determined that these final specifications are consistent with the FMP and with the Magnuson-Stevens Act and other applicable laws.

This action is authorized under 50 CFR 679.20 and is exempt from review under Executive Order 12866.

NMFS prepared a Final EIS for the Alaska Groundfish Harvest Specifications and made it available to the public on January 12, 2007 (72 FR 1512). On February 13, 2007, NMFS issued the Record of Decision (ROD) for the Final EIS. In January 2007 NMFS prepared a Supplemental Information Report (SIR) for this action. Copies of the Final EIS, ROD, and SIR for this action are available from NMFS (see ADDRESSES). The Final EIS analyzes the environmental consequences of the groundfish harvest specifications and alternative harvest strategies on resources in the action area. The SIR evaluates the need to prepare a Supplemental EIS (SEIS) for the 2008 and 2009 groundfish harvest specifications.

A SEIS should be prepared if (1) the agency makes substantial changes in the proposed action that are relevant to environmental concerns, or (2) significant new circumstances or information exist relevant to environmental concerns and bearing on the proposed action or its impacts (40 CFR 1502.9(c)(1)). After reviewing the information contained in the SIR and SAFE reports, the Administrator, Alaska Region, has determined that (1) approval of the 2008 and 2009 harvest specifications, which were set according the preferred harvest strategy in the Final EIS, do not constitute a change in the action; and (2) there are no significant new circumstances or information relevant to environmental concerns and bearing on the action or its impacts. Additionally, the 2008 and 2009 harvest specifications will result in environmental impacts within the scope of those analyzed and disclosed in the Final EIS. Therefore, supplemental National Environmental Protection Act (NEPA) documentation is not necessary to implement the 2008 and 2009 harvest specifications.

The proposed harvest specifications were published in the Federal Register on December 6, 2007 (72 FR 68810). An Initial Regulatory Flexibility Analysis (IRFA) was prepared to evaluate the impacts on small entities of alternative harvest strategies for the groundfish fisheries in the Exclusive Economic Zone (EEZ) off Alaska on small entities. The public comment period ended on January 16, 2007. No comments were received regarding the IRFA or the economic impacts of this action. A Final Regulatory Flexibility Analysis (FRFA) was prepared that meets the statutory requirements of the Regulatory Flexibility Act of 1980, as amended by the Small Business Regulatory Enforcement Fairness Act of 1996 (5 U.S.C. 601-612). Copies of the IRFA and FRFA prepared for this action are available from NMFS, Alaska Region (see ADDRESSES). A summary of the FRFA follows.

The action under consideration is a harvest strategy to govern the harvest of groundfish in the GOA. The preferred alternative is the status quo harvest strategy in which TACs fall within the range of ABCs recommended by the Council's harvest specifications process and TACs recommended by the Council. This action is taken in accordance with the FMP prepared by the Council pursuant to the Magnuson-Stevens Act.

The directly regulated small entities include approximately 747 small catcher vessels and fewer than 20 small catcher/processors. The entities directly regulated by this action are those that harvest groundfish in the EEZ of the GOA, and in parallel fisheries within State of Alaska waters. These include entities operating catcher vessels and catcher/processor vessels within the action area, and entities receiving direct allocations of groundfish. Catcher vessels and catcher/processors were considered to be small entities if they had annual gross receipts of $4 million per year or less from all economic activities, including the revenue of their affiliated operations. Data from 2005 were the most recent available to determine the number of small entities.

Estimates of first wholesale gross revenues for the GOA were used as indices of the potential impacts of the alternative harvest strategies on small entities. An index of revenues was projected to decline under the preferred alternative due to declines in ABCs for key species in the GOA. The index of revenues declined by less than 4 percent between 2007 and 2008 and by less than one percent between 2007 and 2009.

The preferred alternative (Alternative 2) was compared to four other alternatives. These included Alternative 1, which would have set TACs to generate fishing rates equal to the maximum permissible ABC (if the full TAC were harvested), unless the sum of TACs exceeded the GOA OY, in which case harvests would be limited to the OY. Alternative 3 would have set TACs to produce fishing rates equal to the most recent five-year average fishing rate. Alternative 4 would have set TACs to equal the lower limit of the GOA OY range. Alternative 5 would have set TACs equal to zero. Alternative 5 is the “no action” alternative.

Alternatives 3, 4, and 5 were all associated with smaller levels for important fishery TACs than Alternative 2. Estimated total first wholesale gross revenues were used as an index of potential adverse impacts to small entities. As a consequence of the lower TAC levels, Alternatives 3, 4, and 5 all had smaller of these first wholesale revenue indices than Alternative 2. Thus, Alternatives 3, 4, and 5 had greater adverse impacts on small entities. Alternative 1 appeared to generate higher values of the gross revenue index for fishing operations in the GOA than Alternative 2. A large part of the Alternative 1 GOA revenue appears to be due to the assumption that the full Alternative 1 TAC would be harvested. This increased revenue is due to increases in flatfish TACs that were much higher for Alternative 1 than for Alternative 2. In recent years, halibut bycatch constraints in these fisheries have kept actual flatfish catches from reaching Alternative 1 levels. Therefore, a large part of the revenues associated with Alternative 1 is unlikely to occur. Also, Alternative 2 TACs are constrained by the ABCs the Plan Teams and SSC are likely to recommend to the Council on the basis of a full consideration of biological issues. These ABCs are often less than Alternative 1's maximum permissible ABCs. Therefore higher TACs under Alternative 1 may not be consistent with prudent biological management of the resource. For these reasons, Alternative 2 is the preferred alternative.

This action does not modify recordkeeping or reporting requirements, or duplicate, overlap, or conflict with any Federal rules.

Adverse impacts on marine mammals resulting from fishing activities conducted under this rule are discussed in the Final EIS (see ADDRESSES).

Pursuant to 5 U.S.C. 553(d)(3), the Assistant Administrator for Fisheries, NOAA, finds good cause to waive the 30-day delay in effectiveness for this rule. Plan Team review occurred in November 2007, Council consideration and recommendations in December 2007, and NOAA Fisheries review and development in January-February 2008. For all fisheries not currently closed because the TACs established under the 2007 and 2008 final harvest specifications (72 FR 9676, March 5, 2007) were not reached, the likely possibility exists that they will be closed prior to the expiration of a 30-day delayed effectiveness period because their TACs could be reached. Certain fisheries, such as those for pollock and Pacific cod are intensive, fast-paced fisheries. Other fisheries, such as those for flatfish, rockfish, and “other species,” are critical as directed fisheries and as incidental catch in other fisheries. U.S. fishing vessels have demonstrated the capacity to catch the TAC allocations in these fisheries. Any delay in allocating the final TACs in these fisheries would cause disruption to the industry and potential economic harm through unnecessary discards. Determining which fisheries may close is impossible because these fisheries are affected by several factors that cannot be predicted in advance, including fishing effort, weather, movement of fishery stocks, and market price. Furthermore, the closure of one fishery has a cascading effect on other fisheries by freeing-up fishing vessels, allowing them to move from closed fisheries to open ones, increasing the fishing capacity in those open fisheries and causing them to close at an accelerated pace.

If the final harvest specifications are not effective by March 8, 2008, which is the start of the Pacific halibut season as specified by the IPHC, the hook-and-line sablefish fishery will not begin concurrently with the Pacific halibut season. This would result in the needless discard of sablefish that are caught along with Pacific halibut as both hook-and-line sablefish and Pacific halibut are managed under the same IFQ program. Immediate effectiveness of the final 2008 and 2009 harvest specifications will allow the sablefish fishery to begin concurrently with the Pacific halibut season. Also, the immediate effectiveness of this action is required to provide consistent management and conservation of fishery resources based on the best available scientific information, and to give the fishing industry the earliest possible opportunity to plan its fishing operations. Therefore NMFS finds good cause to waive the 30-day delay in effectiveness under 5 U.S.C. 553(d)(3).

Small Entity Compliance Guide

The following information is a plain language guide to assist small entities in complying with this final rule as required by the Small Business Regulatory Enforcement Fairness Act of 1996. This final rule's primary purpose is to announce the 2008 and 2009 final harvest specifications and prohibited species bycatch allowances for the groundfish fisheries of the GOA. This action is necessary to establish harvest limits and associated management measures for groundfish during the 2008 and 2009 fishing years and to accomplish the goals and objectives of the FMP. This action affects all fishermen who participate in the GOA fisheries. The specific amounts of OFL, ABC, TAC, and PSC are provided in tables to assist the reader. NMFS will announce closures of directed fishing in the Federal Register and information bulletins released by the Alaska Region. Affected fishermen should keep themselves informed of such closures.

Authority: 16 U.S.C. 773 et seq., 1801 et seq., 3631 et seq.; Pub. L. 108-447.

Dated: February 19, 2008.
Samuel D. Rauch III,
Deputy Assistant Administrator, For Regulatory Services, National Marine Fisheries Service.

[FR Doc. E8-3531 Filed 2-26-08; 8:45 am]

BILLING CODE 3510-22-P